NUCLEAR REGULATORY COMMISSION

10 CFR Parts 170 and 171

[NRC-2023-0069]

RIN 3150-AK95

Fee Schedules; Fee Recovery for Fiscal Year 2025

AGENCY: Nuclear Regulatory Commission.

ACTION: Final rule.

SUMMARY: The U.S. Nuclear Regulatory Commission (NRC) is amending the licensing, inspection, special project, and annual fees charged to its applicants and licensees. These amendments are necessary to comply with the Nuclear Energy Innovation and Modernization Act, which requires the NRC to recover, to the maximum extent practicable, approximately 100 percent of its annual budget, less certain amounts excluded from this fee recovery requirement. In addition, the NRC is making amendments to implement a reduced hourly rate for advanced nuclear reactor applicants and pre-applicants for certain activities as required by the Accelerating Deployment of Versatile, Advanced Nuclear for Clean Energy Act of 2024.

DATES: This final rule is effective on August 25, 2025.

ADDRESSES: Please refer to Docket ID NRC-2023-0069 when contacting the NRC about the availability of information for this action. You may obtain publicly available information related to this action by any of the following methods:

• Federal rulemaking website: Go to https://www.regulations.gov and search for Docket ID NRC-2023-0069. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, the ADAMS accession numbers are provided in the “Availability of Documents” section of this document.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

For additional direction on obtaining information, see “Obtaining Information and Submitting Comments” in the SUPPLEMENTARY INFORMATION section of this document.

FOR FURTHER INFORMATION CONTACT: William Blaney, Office of the Chief Financial Officer, U.S. Nuclear Regulatory Commission, Washington, DC 20555-0001; telephone: 301-415-5092; email: William.Blaney@nrc.gov.

SUPPLEMENTARY INFORMATION:

Table of Contents

I. Background; Statutory Authority

II. Discussion

III. Public Comment Analysis

IV. Public Comments and NRC Responses

V. Regulatory Flexibility Certification

VI. Regulatory Analysis

VII. Backfitting and Issue Finality

VIII. Plain Writing

IX. National Environmental Policy Act

X. Paperwork Reduction Act

XI. Regulatory Planning and Review (Executive Order 12866) Act

XII. Congressional Review

XIII. Voluntary Consensus Standards

XIV. Availability of Guidance

XV. Availability of Documents

I. Background; Statutory Authority

The NRC's fee regulations are primarily governed by two laws: (1) the Independent Offices Appropriation Act, 1952 (IOAA) (31 U.S.C. 9701); and (2) the Nuclear Energy Innovation and Modernization Act (NEIMA) (42 U.S.C. 2215). The IOAA authorizes and encourages Federal agencies to recover, to the fullest extent possible, costs attributable to services provided to identifiable recipients. Under NEIMA, the NRC must recover, to the maximum extent practicable, approximately 100 percent of its annual budget, less the budget authority for excluded activities. Under section 102(b)(1)(B) of NEIMA, “excluded activities” include any fee-relief activity as identified by the Commission, generic homeland security activities, waste incidental to reprocessing activities, Nuclear Waste Fund activities, advanced reactor regulatory infrastructure activities, Inspector General (IG) services for the Defense Nuclear Facilities Safety Board, research and development at universities in areas relevant to the NRC's mission, and a nuclear science and engineering grant program. In fiscal year (FY) 2025, the fee-relief activities identified by the Commission are consistent with prior fee rules (see table I, “Excluded Activities,” of this document for the list of all excluded activities).

Under NEIMA, the NRC must use its IOAA authority first to collect service fees for NRC work that provides specific benefits to identifiable recipients (such as licensing work, inspections, and special projects). The NRC's regulations in part 170 of title 10 of the Code of Federal Regulations (10 CFR), “Fees for Facilities, Materials, Import and Export Licenses, and Other Regulatory Services Under the Atomic Energy Act of 1954, as Amended,” explain how the agency collects service fees from specific beneficiaries. Because the NRC's fee recovery under the IOAA (10 CFR part 170) will not equal 100 percent of the agency's total budget authority for the FY (less the budget authority for excluded activities), the NRC also assesses “annual fees” under 10 CFR part 171, “Annual Fees for Reactor Licenses and Fuel Cycle Licenses and Materials Licenses, Including Holders of Certificates of Compliance, Registrations, and Quality Assurance Program Approvals and Government Agencies Licensed by the NRC,” to recover the remaining amount necessary to comply with NEIMA.

Additionally, on July 9, 2024, the Accelerating Deployment of Versatile, Advanced Nuclear for Clean Energy Act of 2024 (ADVANCE Act) was signed into law, and, among other things, it amended fee-related provisions in NEIMA. Specifically, the ADVANCE Act includes three fee-related provisions and provides an effective date of October 1, 2025 (FY 2026), for each of these provisions: (1) section 101, “International Nuclear Export and Innovation Activities,” establishes a new excluded activity for “[c]osts for international nuclear export and innovation activities described in section 101(a)” of the ADVANCE Act; (2) section 201, “Fees for Advanced Nuclear Reactor Application Review,” requires a reduced hourly rate for advanced nuclear reactor applicants and advanced nuclear reactor pre-applicants for certain activities (Reduced Hourly Rate) and creates new excluded activities associated with the Reduced Hourly Rate; and (3) section 204, “Enabling Preparations for the Demonstration of Advanced Nuclear Reactors on Department of Energy Sites or Critical National Security Infrastructure Sites,” establishes two more excluded activities for costs for application reviews and pre-application activities for an early site permit to demonstrate an advanced nuclear reactor on a Department of Energy or “critical national security infrastructure” site.

This final rule includes revisions to 10 CFR part 170 to implement section 201 of the ADVANCE Act in preparation for October 1, 2025 (FY 2026), which is the statutory effective date for the Reduced Hourly Rate. In short, the NRC is establishing two hourly rates: (1) the professional hourly rate; and (2) the Reduced Hourly Rate for advanced nuclear reactor applicants and pre-applicants. The professional hourly rate will be effective August 25, 2025, coincident with the effective date for this rule, and the Reduced Hourly Rate will take effect separately on October 1, 2025 (FY 2026), consistent with the statutory effective date. The professional hourly rate is the typical full-cost professional hourly rate calculated using the NRC's established process, as described in Section II, “FY 2025 Fee Collection—Professional Hourly Rate” of this document. The revisions to 10 CFR part 170 to implement the Reduced Hourly Rate, as well as related changes to the rule upon consideration of public comments on the proposed rule, are further described in Section II, Discussion, “FY 2025—Policy Changes,” and in Section IV, Public Comments and NRC Responses of this document.

Because sections 101 and 204 of the ADVANCE Act completely remove certain activities from the fee recovery requirement as new excluded activities effective October 1, 2025 (FY 2026), these provisions do not present an implementation issue that would benefit from rule changes being developed in advance of the statutory effective date. As a result, the NRC plans to propose rule changes to implement sections 101 and 204 of the ADVANCE Act as part of the FY 2026 fee rule, consistent with the FY 2026 statutory effective date.

II. Discussion

FY 2025 Fee Collection—Overview

The NRC is issuing this FY 2025 final fee rule based on its enacted budget in Public Law 119-4, Full-Year Continuing Appropriations and Extensions Act, 2025 (the Full-Year Continuing Resolution). The final fee rule reflects a total budget authority in the amount of $944.1 million, which did not change from FY 2024.

As explained previously, certain portions of the NRC's total budget authority are excluded from the fee recovery requirement under section 102(b)(1)(B) of NEIMA. Based on the enacted budget, these exclusions total $137.1 million; this total amount for excluded activities did not change from FY 2024. These excluded activities consist of $96.8 million for fee-relief activities, $23.8 million for advanced reactor regulatory infrastructure activities, $14.0 million for generic homeland security activities, $1.0 million for waste incidental to reprocessing activities, and $1.5 million for IG services for the Defense Nuclear Facilities Safety Board. Table I of this document summarizes the excluded activities for the FY 2025 final fee rule. The FY 2024 amounts are provided for comparison purposes.

Table I—Excluded Activities
[Dollars in millions]
| FY 2024 final rule | FY 2025 final rule
Fee-Relief Activities:
International activities | 31.1 | 31.4
Agreement State oversight | 12.5 | 12.7
Medical isotope production infrastructure | 1.5 | 1.3
Fee exemption for nonprofit educational institutions | 17.7 | 18.2
Costs not recovered from small entities under 10 CFR 171.16(c) | 10.5 | 10.1
Regulatory support to Agreement States | 12.0 | 9.6
Generic decommissioning/reclamation activities (not related to the operating power reactors and spent fuel storage fee classes) | 2.7 | 6.2
Uranium recovery program and unregistered general licensees | 5.3 | 4.3
Potential Department of Defense remediation program Memorandum of Understanding activities | 0.8 | 0.8
Non-military radium sites | 0.2 | 0.2
Minority Serving Institutions Grant Program | 2.5 | 2.0
Subtotal Fee-Relief Activities | 96.8 | 96.8
Activities under section 102(b)(1)(B)(ii) of NEIMA (Generic Homeland Security activities, Waste Incidental to Reprocessing activities, and the Defense Nuclear Facilities Safety Board) | 16.5 | 16.5
Advanced reactor regulatory infrastructure activities | 23.8 | 23.8
Total Excluded Activities | 137.1 | 137.1

After accounting for the exclusions from the fee recovery requirement and net billing adjustments (i.e., for FY 2025 invoices that the NRC estimates will not be paid during the FY, less payments received in FY 2025 for prior-year invoices), the NRC must recover approximately $808.8 million in fees in FY 2025.¹ Of this amount, the NRC estimates that $205.4 million will be recovered through 10 CFR part 170 service fees and approximately $603.4 million will be recovered through 10 CFR part 171 annual fees. Table II of this document summarizes the fee recovery amounts for the FY 2025 final fee rule using the FY 2025 enacted budget and takes into account the budget authority for excluded activities and net billing adjustments; the FY 2024 amounts are provided for comparison purposes. For all information presented in this final rule, individual values may not sum to totals due to rounding. Please see the work papers, available as indicated in the “Availability of Documents” section of this document, for more precise amounts.

¹ Please see the work papers for more detailed information on the net billing adjustments.

In FY 2025, because the Full-Year Continuing Resolution appropriates FY 2025 funds at the FY 2024 enacted levels, does not contain provisions regarding the NRC's prior-year funds, and was not accompanied by an explanatory statement, the Full-Year Continuing Resolution does not provide direction for the NRC to use a specific amount of prior-year unobligated balances (carryover).

Table II—Budget and Fee Recovery Amounts
[Dollars in millions]
| FY 2024 final rule | FY 2025 final rule
Total Budget Authority | $944.1 | $944.1
Less Budget Authority for Excluded Activities | −137.1 | −137.1
Balance | 807.0 | 807.0
Fee Recovery Percent | 100.0 | 100.0
Total Amount to be Recovered | 807.0 | 807.0
Less Estimated Amount to be Recovered through 10 CFR part 170 Fees | −202.2 | −205.4
Estimated Amount to be Recovered through 10 CFR part 171 Fees | 604.8 | 601.6
10 CFR part 171 Billing Adjustments:
Unpaid Current Year Invoices (estimated) | 4.3 | 5.5
Less Payments Received in Current Year for Previous Year Invoices (estimated) | −3.0 | −3.7
Adjusted 10 CFR part 171 Annual Fee Collections Required | 606.1 | 603.4
Adjusted Amount to be Recovered through 10 CFR parts 170 and 171 Fees | 808.3 | 808.8

FY 2025 Fee Collection—Professional Hourly Rate

This section discusses the methodology for calculating the NRC's typical full-cost hourly rate. The methodology for calculating the Reduced Hourly Rate is discussed in Section II, Discussion, “FY 2025—Policy Change,” of this document.

The NRC uses a professional hourly rate to assess fees under 10 CFR part 170 for specific services it provides. The professional hourly rate also helps determine flat fees (which are used for the review of certain types of materials license applications). The full costs of fees under §§ 170.21, “Schedule of fees for production and utilization facilities, review of standard referenced design approvals, special projects, inspections and import and export licenses,” and 170.31, “Schedule of fees for materials licenses and other regulatory services, including inspections, and import and export licenses,” will be determined based on either the professional hourly rate, effective on August 25, 2025, or the Reduced Hourly Rate, effective October 1, 2025 (FY 2026).

The NRC's professional hourly rate is derived by adding budgeted resources for: (1) mission-direct program salaries and benefits; (2) mission-indirect program support; and (3) agency support (corporate support and the IG).² The NRC then subtracts certain offsetting receipts and divides this total by the mission-direct full-time equivalent (FTE) converted to hours (the mission-direct FTE converted to hours is the product of the mission-direct FTE multiplied by the estimated annual mission-direct FTE productive hours). Consistent with OMB Circular A-25, “User Charges,” the professional hourly rate encompasses the “full cost” of NRC review and thus includes the NRC's budgetary resources for mission-direct program salaries and benefits, mission-indirect contract resources along with salaries and benefits plus the agency support program contract resources along with salaries and benefits. The only budgeted resources excluded from the professional hourly rate are those for mission-direct contract resources, which are generally billed to licensees separately. The following shows the professional hourly rate calculation:

² Please see the work papers for more detailed information on all the components of the professional hourly rate calculation.

For FY 2025, the NRC is increasing the professional hourly rate from $317 to $318. The approximately 0.3 percent increase in the professional hourly rate is primarily due to the change in mission-direct FTE compared to FY 2024. Based on the FY 2025 enacted budget, the number of mission-direct FTE is expected to decrease by approximately 17, primarily to support planned efficiencies in operating reactor license application reviews and the discontinuation of activities related to the Project Pele application. The professional hourly rate is inversely related to the mission-direct FTE amount; therefore, as the number of mission-direct FTE decreases, the professional hourly rate may increase.

The decrease in mission-direct FTE is partially offset by a reduction in the budgeted resources of approximately $1.2 million or 0.2 percent, along with the rise of seven hours in the estimated annual mission-direct FTE productive hours or 0.5 percent.

The FY 2025 estimate for annual mission-direct FTE productive hours is 1,507 hours, which is an increase from 1,500 hours in FY 2024. This estimate reflects the average number of hours that a mission-direct employee spends on mission-direct work annually. This estimate, therefore, excludes hours charged to annual leave, sick leave, holidays, training, and general administrative tasks. Table III of this document shows the professional hourly rate calculation methodology. The FY 2024 amounts are provided for comparison purposes.

³ The fees collected by the NRC for Freedom of Information Act (FOIA) services and indemnity fees (financial protection required of all licensees for public liability claims at 10 CFR part 140) are subtracted from the budgeted resources amount when calculating the 10 CFR part 170 professional hourly rate, per the guidance in OMB Circular A-25, “User Charges.” The budgeted resources for FOIA activities are allocated under the product for Information Services within the Corporate Support business line. The budgeted resources for indemnity activities are allocated under the Licensing Actions and Research and Test Reactors products within the Operating Reactors business line.

Table III—Professional Hourly Rate Calculation
[Dollars in millions, except as noted]
| FY 2024 final rule | FY 2025 final rule
Mission-Direct Program Salaries & Benefits | $384.4 | $380.5
Mission-Indirect Program Support | $118.9 | $121.5
Agency Support (Corporate Support and the IG) | $313.6 | $313.8
Subtotal | $816.9 | $815.8
Less Offsetting Receipts ³ | $0.0 | $0.0
Total Budgeted Resources Included in Professional Hourly Rate | $816.9 | $815.8
Mission-Direct FTE | 1,720.3 | 1,703.3
Annual Mission-Direct FTE Productive Hours (Whole numbers) | 1,500 | 1,507
Mission-Direct FTE Converted to Hours (Mission-Direct FTE multiplied by Annual Mission-Direct FTE Productive Hours) | 2,580,450 | 2,566,873
Professional Hourly Rate (Total Budgeted Resources Included in Professional Hourly Rate Divided by Mission-Direct FTE Converted to Hours) (Whole Numbers) | $317 | $318

FY 2025 Fee Collection—Flat Application Fee Changes

The NRC is amending the flat application fees it charges in its schedule of fees in § 170.31 to reflect the revised professional hourly rate of $318. The NRC charges these fees to applicants for materials licenses and other regulatory services, as well as to holders of materials licenses. The NRC calculates these flat fees by multiplying the average professional staff hours needed to process the licensing actions by the professional hourly rate for FY 2025. As part of its calculations, the NRC analyzes the actual hours spent performing licensing actions and estimates the five-year average of professional staff hours that are needed to process licensing actions as part of its biennial review of fees. These actions are required by section 205(a) of the Chief Financial Officers Act of 1990 (31 U.S.C. 902(a)(8)). The NRC performed this review for the FY 2025 fee rule and will perform this review again for the FY 2027 fee rule. The biennial review adjustment and the higher professional hourly rate of $318 is the primary reason for the increase in flat application fees (see the work papers).

To simplify billing, the NRC rounds these flat fees to a minimal degree. Specifically, the NRC rounds these flat fees (up or down) in such a way that ensures both convenience for its stakeholders and minimal effects due to rounding. Accordingly, fees under $1,000 are rounded to the nearest $10, fees between $1,000 and $100,000 are rounded to the nearest $100, and fees greater than $100,000 are rounded to the nearest $1,000.

The flat fees are applicable for certain materials licensing actions (see fee categories 1.C. through 1.D., 2.B. through 2.F., 3.A. through 3.S., 4.B. through 5.A., 6.A. through 9.D., 10.B., 15.A. through 15.L., 15.R., and 16 of § 170.31). Applications filed on or after the effective date of the FY 2025 final fee rule will be subject to the revised fees in the final rule.

Historically, flat fees were applicable to import and export licensing actions. However, in FY 2022, the Commission included the resources for import and export licensing actions within the “international activities” fee-relief activity. Under NEIMA, “excluded activities” include any fee-relief activity identified by the Commission as well as specific activities listed in the statute. Section 101 of the ADVANCE Act establishes an excluded activity for “[c]osts for international nuclear export and innovation activities described in section 101(a)” of the ADVANCE Act. The ADVANCE Act thus changed the treatment of this subset of international activities (i.e., the “international nuclear export and innovation activities described in section 101(a)”) from being included within a fee-relief activity to being a separate excluded activity under NEIMA. Because both fee-relief activities identified by the Commission and the separate excluded activities identified in NEIMA are both excluded from the fee-recovery requirement, fees continue to not be assessed under 10 CFR parts 170 and 171 for import and export licensing actions.

FY 2025 Fee Collection—Low-Level Waste Surcharge

The NRC is assessing a generic low-level waste (LLW) surcharge of $3.798 million. Disposal of LLW occurs at commercially-operated LLW disposal facilities that are licensed by either the NRC or an Agreement State. Four existing LLW disposal facilities in the United States accept various types of LLW. All these facilities are regulated by an Agreement State, rather than the NRC.

The NRC allocates this surcharge to its licensees based on data available in the U.S. Department of Energy's (DOE) Manifest Information Management System (MIMS). This database contains information on total LLW volumes disposed of by four generator classes: academic, industrial, medical, and utility. The ratio of waste volumes disposed of by these generator classes to total LLW volumes disposed over a period of time is used to estimate the portion of this surcharge that will be allocated to the operating power reactors, fuel facilities, and the materials users fee classes. The materials users fee class portion is adjusted to account for the large percentage of materials licensees that are licensed by the Agreement States rather than the NRC.

In March, DOE updated MIMS with 2025 data. Because of the update, the following changes occurred compared to the FY 2024 final fee rule: the LLW surcharge for the operating power reactors fee class increased from $3.204 million to $3.251 million; the LLW surcharge decreased from $0.449 million to $0.433 million for the fuel facilities fee class; and the LLW surcharge decreased from $0.117 million to $0.114 million for the materials users fee class.

Table IV of this document shows the allocation of the LLW surcharge and its allocation across the various fee classes.

Table IV—Allocation of LLW Surcharge, FY 2025
[Dollars in millions]
Fee classes | LLW surcharge: Percent | LLW surcharge: $
Operating Power Reactors | 85.6 | 3.251
Spent Fuel Storage/Reactor Decommissioning | 0.0 | 0.000
Non-Power Production or Utilization Facilities | 0.0 | 0.000
Fuel Facilities | 11.4 | 0.433
Materials Users | 3.0 | 0.114
Transportation | 0.0 | 0.000
Rare Earth Facilities | 0.0 | 0.000
Uranium Recovery | 0.0 | 0.000
Total | 100.0 | 3.798

FY 2025 Fee Collection—Revised Annual Fees

In accordance with SECY-05-0164, “Annual Fee Calculation Method,” the NRC rebaselines its annual fees every year. “Rebaselining” entails analyzing the budgeted resources in detail and then allocating budgeted resources to various classes or subclasses of licensees. Rebaselining also includes updating the number of NRC licensees in its fee calculation methodology.

As shown in table II above, the NRC calculates the total amount to be recovered through 10 CFR part 171 annual fees by first taking the annual budget (less the budget authority for excluded activities) and subtracting the estimated amount to be recovered through 10 CFR part 170 fees. The NRC then makes certain billing adjustments to arrive at the total adjusted amount to be recovered through 10 CFR part 171 fees.

The NRC is revising its annual fees in §§ 171.15 and 171.16 to recover approximately 100 percent of the FY 2025 enacted budget less the budget authority for excluded activities, and the estimated amount to be recovered through 10 CFR part 170 fees.

Table V of this document shows the rebaselined fees for FY 2025 for a sample of licensee categories. The FY 2024 amounts are provided for comparison purposes.

Table V—Rebaselined Annual Fees
[Actual dollars]
Class/category of licenses | FY 2024 final annual fee | FY 2025 final annual fee
Operating Power Reactors | $5,336,000 | $5,319,000
+ Spent Fuel Storage/Reactor Decommissioning | 326,000 | 326,000
Total, Combined Fee | 5,662,000 | 5,645,000
Spent Fuel Storage/Reactor Decommissioning | 326,000 | 326,000
Non-Power Production or Utilization Facilities | 97,200 | 96,800
High Enriched Uranium Fuel Facility (Category 1.A.(1)(a)) | 6,412,000 | 6,101,000
Low Enriched Uranium Fuel Facility (Category 1.A.(1)(b)) | 2,173,000 | 2,068,000
Uranium Enrichment (Category 1.E) | 2,794,000 | 2,659,000
UF6 Conversion and Deconversion Facility (Category 2.A.(1)) | 1,361,000 | 1,295,000
Basic In Situ Recovery Facilities (Category 2.A.(2)(b)) | 53,200 | 27,700
Typical Users:
Radiographers (Category 3O) | 43,700 | 31,700
All Other Specific Byproduct Material Licensees (Category 3P) | 14,600 | 15,600
Medical Other (Category 7C) | 21,400 | 21,600
Device/Product Safety Evaluation—Broad (Category 9A) | 29,800 | 27,200

The work papers that support this final rule show in detail how the NRC allocates the budgeted resources for each class of licensees and calculates the fees.

Paragraphs a. through h. of this section describes the budgeted resources allocated to each class of licensees and the calculations of the rebaselined fees. For more information about detailed fee calculations for each class, please consult the accompanying work papers for this final rule.

a. Operating Power Reactors

The NRC will collect $500.0 million in annual fees from the operating power reactors fee class in FY 2025, as shown in table VI of this document. The FY 2024 operating power reactors fees are shown for comparison purposes.

Table VI—Annual Fee Summary Calculations for Operating Power Reactors
[Dollars in millions]
Summary fee calculations | FY 2024 final rule | FY 2025 final rule
Total budgeted resources | $665.0 | $668.9
Less estimated 10 CFR part 170 receipts | −168.3 | −174.1
Net 10 CFR part 171 resources | 496.7 | 494.7
Allocated generic transportation | 0.7 | 0.5
Allocated LLW surcharge | 3.2 | 3.3
Billing adjustment | 1.1 | 1.5
Total required annual fee recovery | 501.6 | 500.0
Total operating reactors | 94 | 94
Annual fee per operating reactor | $5.336 | $5.319

In comparison to FY 2024, the FY 2025 annual fee for the operating power reactors fee class is decreasing 0.3 percent primarily due to the following: (1) an anticipated increase in 10 CFR part 170 estimated billings; and (2) a decrease in the allocated generic transportation surcharge. The decrease in the annual fee for the operating power reactors fee class is partially offset due to the following: (1) a 0.6 percent increase in the budgeted resources that are allocated to the fee class; and (2) an increase in the 10 CFR part 171 billing adjustment.

In comparison to FY 2024, the amount recovered in 10 CFR part 170 estimated billings increased primarily due to the $17 rise in the effective professional hourly rate (because the effective professional hourly during FY 2024 was $300 per hour until the FY 2024 final fee rule increased it to $317). This increase in the amount recovered in 10 CFR part 170 estimated billings is partially offset by a reduction in the estimated billable hours for (1) the completion of construction inspection at Vogtle Unit 4, (2) reduced baseline inspection hours within the approximately 3 percent year-to-year variance, and (3) fewer licensing actions for operating reactors under review.

The increase in the budgeted resources for the operating power reactors fee class is primarily due to the following: (1) an increase in the fully-costed FTE rate compared to FY 2024 due to a reduction in mission-direct FTE; ⁴ (2) an increase in resources for pre-application activities for upcoming early site permit and construction permit applications; and (3) an increase in resources to support licensing work related to the Palisades, Duane Arnold, and Crane Clean Energy Center restart projects. Restart projects require an increase in resources because they involve regulatory, technical, and operational activities necessary to safely bring a reactor back online. These efforts include thorough licensing reviews, compliance evaluations, and ensuring the facility meets current safety and operational standards. Additionally, restart projects often require dedicated staff time for pre-application activities and site-specific assessments, adding to the overall resource demand. The increase in the budgeted resources is partially offset by a decrease in resources due to planned efficiencies in license renewal application reviews.

⁴ The fully-costed FTE rate is calculated first by adding budgeted resources for: (1) mission-direct program salaries and benefits for all business lines; (2) mission-indirect program support (e.g., supervisory support, training) for all business lines; and (3) agency support. This total is then divided by the total of mission-direct FTE agencywide. As the denominator in the fully-costed FTE rate calculation, a decrease in the number of mission-direct FTE (approximately 17 FTE decrease in FY 2025) results in an increase in the fully-costed FTE rate.

The annual fee is also affected by: (1) an increase in the 10 CFR part 171 billing adjustment due to the timing of invoices issued in FY 2024; and (2) an increase in the generic transportation surcharge due to an increase in the overall budgeted resources for certificates of compliance (CoCs) for the operating power reactors fee class.

The fee-recoverable budgeted resources are divided equally among the 94 licensed operating power reactors, resulting in an annual fee of $5,319,000 per operating power reactor. Additionally, each licensed operating power reactor will be assessed the FY 2025 spent fuel storage/reactor decommissioning annual fee of $326,000 (see table VII of this document and the discussion that follows). The combined FY 2025 annual fee for each operating power reactor will be $5,645,000.

Section 102(b)(3)(B)(i) of NEIMA established a cap for the annual fees charged to operating reactor licensees; under this provision, the annual fee for an operating reactor licensee, to the maximum extent practicable, shall not exceed the annual fee amount per operating reactor licensee established in the FY 2015 final fee rule (80 FR 37432; June 30, 2015), adjusted for inflation. The NRC included an estimate of the operating power reactors fee class annual fee in appendix C, “Estimated Operating Power Reactors Annual Fee,” of the FY 2025 Congressional Budget Justification (CBJ) to increase transparency for stakeholders. The NRC developed this estimate based on the allocation of the FY 2025 CBJ to fee classes under 10 CFR part 170, and allocations within the operating power reactors fee class under 10 CFR part 171. The fee estimate included in the FY 2025 CBJ assumed 94 operating power reactors in FY 2025 and applied various data assumptions from the FY 2023 final fee rule. Based on these allocations and assumptions, the operating power reactors fee class annual fee included in the FY 2025 CBJ was estimated to be $5.5 million, approximately $0.9 million below the FY 2015 operating power reactors annual fee amount adjusted for inflation of $6.4 million. The assumptions made between budget formulation and the development of this final rule have changed. The FY 2025 annual fee of $5,319,000 per reactor licensee nonetheless remains below the FY 2015 operating power reactors fee class annual fee amount, as adjusted for inflation.

In FY 2016, the NRC amended § 171.15 to establish a variable annual fee structure for light-water reactor (LWR) small modular reactors (SMRs) (81 FR 32617; May 24, 2016). In FY 2023, the NRC further amended § 171.5 to: (1) expand the applicability of the SMR variable fee structure to include non-LWR SMRs; and (2) establish an additional minimum fee and variable rate applicable to SMRs with a licensed thermal power rating of less than or equal to 250 megawatts-thermal (MWt) (88 FR 39120; June 15, 2023). This revision to the SMR variable annual fee structure retained the bundled unit concept for SMRs and the approach for calculating fees for reactors, or bundled units, with licensed thermal power ratings greater than 250 MWt.

Currently, there are no operating SMRs; therefore, the NRC will not assess an annual fee in FY 2025 for this type of licensee.

b. Spent Fuel Storage/Reactor Decommissioning

The NRC will collect $40.4 million in annual fees from 10 CFR part 50 and 10 CFR part 52 power reactor licensees, and from 10 CFR part 72 licensees that do not hold a 10 CFR part 50 license or a 10 CFR part 52 combined license, to recover the budgeted resources for the spent fuel storage/reactor decommissioning fee class in FY 2025, as shown in table VII of this document. The FY 2024 spent fuel storage/reactor decommissioning fees are shown for comparison purposes.

Table VII—Annual Fee Summary Calculations for Spent Fuel Storage/Reactor Decommissioning
[Dollars in millions]
Summary fee calculations | FY 2024 final rule | FY 2025 final rule
Total budgeted resources | $50.4 | $50.7
Less estimated 10 CFR part 170 receipts | −12.3 | −12.3
Net 10 CFR part 171 resources | 38.0 | 38.4
Allocated generic transportation costs | 2.3 | 1.9
Billing adjustments | 0.1 | 0.1
Total required annual fee recovery | 40.4 | 40.4
Total spent fuel storage facilities | 124 | 124
Annual fee per facility | $0.326 | $0.326

In comparison to FY 2024, the FY 2025 annual fee for the spent fuel storage/reactor decommissioning fee class remains the same as FY 2024. While the budgeted resources allocated to the fee class increased slightly from $50.4 million to $50.7 million, this increase was offset by a decrease in the allocated generic transportation costs, resulting in the annual fee per facility remaining the same as FY 2024.

The budgeted resources increased primarily due to an increase in the fully-costed FTE rate compared to FY 2024.

Compared to FY 2024, the 10 CFR part 170 estimated billings also remained stable. In FY 2025, while there was an increase in licensing activities for storage license amendments and an increase in inspections at storage facilities due to loading campaigns, these increases were offset by the following: (1) the withdrawal of two license termination plan applications, including the associated environmental reviews; (2) a decrease in decommissioning inspection activities at multiple sites; and (3) a reduction in the number of licensing activities for storage license renewals. Overall, this resulted in the FY 2025 estimated part 170 billings for the fee class remaining the same as FY 2024.

The required annual fee recovery amount is divided equally among 124 licensees, resulting in a FY 2025 annual fee of $326,000 per licensee.

c. Fuel Facilities

The NRC will collect $24.1 million in annual fees from the fuel facilities fee class in FY 2025, as shown in table VIII of this document. The FY 2024 fuel facilities fees are shown for comparison purposes.

Table VIII—Annual Fee Summary Calculations for Fuel Facilities
[Dollars in millions]
Summary Fee Calculations | FY 2024 final rule | FY 2025 final rule
Total budgeted resources | $30.9 | $31.5
Less estimated 10 CFR part 170 receipts | −8.7 | −10.0
Net 10 CFR part 171 resources | 22.2 | 21.5
Allocated generic transportation | 2.5 | 2.0
Allocated LLW surcharge | 0.4 | 0.4
Billing adjustments | 0.1 | 0.1
Total remaining required annual fee recovery | $25.3 | $24.1

In comparison to FY 2024, the FY 2025 annual fee for the fuel facilities fee class is decreasing primarily due to the following: (1) an increase in the 10 CFR part 170 estimated billings; and (2) a decrease in the allocated generic transportation costs. The drivers for the decrease in the annual fee are offset by an increase in the budgeted resources allocated to the fuel facilities fee class.

The budgeted resources allocated to the fee class increased primarily to support the following: (1) an increase in licensing actions for 10 CFR parts 40 and 70 licensees; (2) development of environmental review guidance; and (3) an increase in the fully-costed FTE rate compared to FY 2024.

The 10 CFR part 170 estimated billings are anticipated to increase in comparison to FY 2024 primarily due to the following: (1) review of several expected licensing actions, including four major amendment requests that support new fuels (i.e., two amendments to increase enrichment limits at Framatome, one amendment to increase enrichment limits at Urenco USA, one amendment for the American Centrifuge Plant extending operation of the HALEU Demonstration); (2) the continued review of the TRISO-X, LLC, fuel fabrication facility application; (3) pre-application activities for three new fuel facility applications and one major amendment request; and (4) the NRC's review of the Purdue University license renewal application for possession and use of special nuclear material. This increase is partially offset by the completion of several licensing actions that were completed in FY 2025 and not billed for a full year: (1) the license termination for the Lead Cascade Facility; (2) the Urenco USA amendment to increase its enrichment limit to 10 weight percent uranium-235; and (3) the NRC's review of the National Institute of Standards and Technology's (NIST's) license renewal application for possession and use of special nuclear material.

The NRC will continue allocating annual fees to individual fuel facility licensees based on the effort/fee determination matrix developed in the FY 1999 final fee rule (64 FR 31448; June 10, 1999). To briefly recap, the matrix groups licensees within this fee class into various fee categories. The matrix lists processes that are conducted at licensed sites and assigns effort factors for the safety and safeguards activities associated with each process (these effort levels are reflected in table IX of this document). The annual fees are then distributed across the fee class based on the regulatory effort assigned by the matrix. The effort factors in the matrix represent regulatory effort that is not recovered through 10 CFR part 170 fees (e.g., rulemaking, guidance). Regulatory effort for activities that are subject to 10 CFR part 170 fees, such as the number of inspections, is not applicable to the effort factor.

Table IX—Effort Factors for Fuel Facilities, FY 2025
Facility type (fee category) | Number of facilities | Effort factors: Safety | Effort factors: Safeguards
High Enriched Uranium Fuel (1.A.(1)(a)) | 2 | 88 | 91
Low Enriched Uranium Fuel (1.A.(1)(b)) | 3 | 70 | 21
Limited Operations (1.A.(2)(a)) | 1 | 3 | 22
Gas Centrifuge Enrichment Demonstration (1.A.(2)(b)) | 0 | 0 | 0
Hot Cell (and others) (1.A.(2)(c)) | 0 | 0 | 0
Uranium Enrichment (1.E.) | 1 | 16 | 23
UF6 Conversion and Deconversion (2.A.(1)) | 1 | 12 | 7
Total | 8 | 189 | 164

In FY 2025, the total remaining amount of the annual fees that the NRC estimates to be recovered, $24.1 million, is attributable to safety activities, safeguards activities, and the LLW surcharge. For FY 2025, the total budgeted resources to be recovered as annual fees for safety activities are approximately $12.7 million. To calculate the annual fee, the NRC allocates this amount to each fee category based on its percentage of the total regulatory effort for safety activities. Similarly, the NRC allocates the budgeted resources that the NRC estimates to be recovered as annual fees for safeguards activities, $11.0 million, to each fee category based on its percentage of the total regulatory effort for safeguards activities. Finally, the fuel facilities fee class portion of the LLW surcharge—$0.4 million—is allocated to each fee category based on its percentage of the total regulatory effort for both safety and safeguards activities. The annual fee per licensee is then calculated by dividing the estimated total allocated budgeted resources for the fee category by the number of licensees in that fee category. The annual fee for each facility is summarized in table X of this document.

Table X—Annual Fees for Fuel Facilities
[Actual dollars]
Facility type (fee category) | FY 2024 final annual fee | FY 2025 final annual fee
High Enriched Uranium Fuel (1.A.(1)(a)) | $6,412,000 | $6,101,000
Low Enriched Uranium Fuel (1.A.(1)(b)) | 2,173,000 | 2,068,000
Facilities with limited operations (1.A.(2)(a)) | 1,791,000 | 1,704,000
Gas Centrifuge Enrichment Demonstration (1.A.(2)(b)) | N/A | N/A
Hot Cell (and others) (1.A.(2)(c)) | N/A | N/A
Uranium Enrichment (1.E.) | 2,794,000 | $2,659,000
UF6 Conversion and Deconversion (2.A.(1)) | 1,361,000 | 1,295,000

d. Uranium Recovery Facilities

The NRC will collect $0.2 million in annual fees from the uranium recovery facilities fee class in FY 2025, as shown in table XI of this document. The FY 2024 uranium recovery facilities fees are shown for comparison purposes.

Table XI—Annual Fee Summary Calculations for Uranium Recovery Facilities
[Dollars in millions]
Summary fee calculations | FY 2024 final rule | FY 2025 final rule
Total budgeted resources | $0.7 | $1.8
Less estimated 10 CFR part 170 receipts | −0.4 | −1.6
Net 10 CFR part 171 resources | 0.3 | 0.2
Allocated generic transportation | N/A | N/A
Billing adjustments | 0.0 | 0.0
Total required annual fee recovery | $0.3 | $0.2

In comparison to FY 2024, the FY 2025 annual fee for the non-DOE licensee in the uranium recovery facilities fee class is decreasing primarily due to a rise in 10 CFR part 170 estimated billings attributed to support the NRC's review of license renewal applications for: (1) Crow Butte Resources, Inc; (2) Powertech USA, Inc.; and (3) CrownPoint. The annual fee for the non-DOE licensee in this fee class is calculated by applying 90 percent of generic/other uranium recovery budgeted resources less the amounts specifically budgeted for Uranium Mill Tailings Radiation Control Act (UMTRCA) Title I and Title II activities, which is reflected in table XII. For more information on this calculation, please see the work papers.

The NRC regulates DOE's Title I and Title II activities under UMTRCA.⁵ The annual fee assessed to DOE includes the resources specifically budgeted for the NRC's UMTRCA Title I and Title II activities, as well as 10 percent of the remaining budgeted resources for this fee class. The NRC described the overall methodology for determining fees for UMTRCA in the FY 2002 final fee rule (67 FR 42612; June 24, 2002), and the NRC continues to use this methodology.

⁵ Congress established the two programs, Title I and Title II, under UMTRCA to protect the public and the environment from hazards associated with uranium milling. The UMTRCA Title I program is for remedial action at abandoned mill tailings sites where tailings resulted largely from production of uranium for weapons programs. The NRC also regulates DOE's UMTRCA Title II program, which is directed toward uranium mill sites licensed by the NRC or Agreement States in or after 1978.

The DOE's UMTRCA annual fee is decreasing compared to FY 2024 primarily due to (1) a decrease in budgeted resources; and (2) an increase in the amount recovered in 10 CFR part 170 estimated billings due to a rise in the effective professional hourly rate. The increase in the amount recovered in 10 CFR part 170 estimated billings is partially offset by a reduction in the estimated billable hours for deferred workload at various DOE UMTRCA sites.

Table XII—Costs Recovered Through Annual Fees; Uranium Recovery Facilities Fee Class
[Actual dollars]
Summary of costs | FY 2024 final annual fee | FY 2025 final annual fee
DOE Annual Fee Amount (UMTRCA Title I and Title II) General Licenses:
UMTRCA Title I and Title II budgeted resources less 10 CFR part 170 receipts | $254,846 | $153,324
10 percent of generic/other uranium recovery budgeted resources | 5,908 | 3,073
10 percent of uranium recovery fee-relief adjustment | N/A | N/A
Total Annual Fee Amount for DOE (rounded) | 261,000 | 156,000
Annual Fee Amount for Other Uranium Recovery Licenses:
90 percent of generic/other uranium recovery budgeted resources less the amounts specifically budgeted for UMTRCA Title I and Title II activities | 53,169 | 27,654
90 percent of uranium recovery fee-relief adjustment | N/A | N/A
Total Annual Fee Amount for Other Uranium Recovery Licensees | 53,169 | 27,654

Further, for any non-DOE licensees, the NRC will continue using a matrix to determine the effort levels associated with conducting generic regulatory actions for the different licensees in the uranium recovery facilities fee class; this is similar to the NRC's approach for fuel facilities, described previously. The matrix methodology for uranium recovery licensees first identifies the licensee categories included within this fee class (excluding DOE). These categories are conventional uranium mills and heap leach facilities, uranium in situ recovery (ISR) and resin ISR facilities, and mill tailings disposal facilities. The matrix identifies the types of operating activities that support and benefit these licensees, along with each activity's relative weight (see the work papers). Currently, there is only one non-DOE licensee, which is a basic ISR facility. Table XIII of this document displays the benefit factors for the non-DOE licensee in that fee category.

Table XIII—Benefit Factors for Uranium Recovery Licenses, 2025
Fee category | Number of licensees | Benefit factor per licensee | Total value | Benefit factor percent total
Conventional and Heap Leach mills (2.A.(2)(a)) | 0 |  |  | 0
Basic In Situ Recovery facilities (2.A.(2)(b)) | 1 | 190 | 190 | 100
Expanded In Situ Recovery facilities (2.A.(2)(c)) | 0 |  |  | 0
Section 11e.(2) disposal incidental to existing tailings sites (2.A.(4)) | 0 |  |  | 0
Total | 1 | 190 | 190 | 100

Given that there is only one non-DOE licensee in the fee class, the application of the matrix does not result in any adjustment to the licensee's annual fee. As such, the FY 2025 annual fee for the remaining non-DOE licensee is $27,700 (rounded), as shown in table XIV of this document.

Table XIV—Annual Fees for Uranium Recovery Licensees
[Other than DOE]
[Actual dollars]
Facility type (fee category) | FY 2024 final annual fee | FY 2025 final annual fee
Conventional and Heap Leach mills (2.A.(2)(a)) | N/A | N/A
Basic In Situ Recovery facilities (2.A.(2)(b)) | $53,200 | $27,700
Expanded In Situ Recovery facilities (2.A.(2)(c)) | N/A | N/A
Section 11e.(2) disposal incidental to existing tailings sites (2.A.(4)) | N/A | N/A

e. Non-Power Production or Utilization Facilities

The NRC will collect $0.194 million in annual fees from the non-power production or utilization facilities fee class in FY 2025, as shown in table XV of this document. The FY 2024 non-power production or utilization facilities fees are shown for comparison purposes.

Table XV—Annual Fee Summary Calculations for Non-Power Production or Utilization Facilities
[Dollars in millions]
Summary fee calculations | FY 2024 final rule | FY 2025 final rule
Total budgeted resources | $3.195 | $0.782
Less estimated 10 CFR part 170 receipts | −2.963 | −0.621
Net 10 CFR part 171 resources | 0.233 | 0.161
Allocated generic transportation | 0.054 | 0.030
Billing adjustments | 0.005 | 0.002
Total required annual fee recovery | 0.292 | 0.194
Total non-power production or utilization facilities licenses | 3 | 2
Total annual fee per license (rounded) | $0.0972 | $0.0968

In comparison to FY 2024, the FY 2025 annual fee for the non-power production or utilization facilities fee class is decreasing, primarily due to a 75.5 percent decrease in budgeted resources allocated to the fee class.

Compared to FY 2024, the budgeted resources decreased primarily due to the following: (1) the completion of the review of the Kairos construction permit application for the Hermes 2, Units 1 and 2 test reactors ahead of schedule; and (2) the completion of the review of the Kairos construction permit for the Hermes test reactor, issued on December 12, 2023. The decrease in budgeted resources is partially offset by the rise in the fully-costed FTE rate compared to FY 2024 due to a decrease in mission-direct FTE.

The 10 CFR part 170 estimated billings for this fee class decreased compared to FY 2024 primarily due to the following: (1) the shutdown of the GE Hitachi Vallecitos Nuclear Center in FY 2024; (2) the completion of the NRC's review effort associated with the NIST fuel damage event and restart; and (3) expected delays in pre-application audits of construction permit submissions.

The total required annual fee recovery amount is divided equally between the two non-power production or utilization facilities licensees subject to annual fees and results in an FY 2025 annual fee of $96,800 for each licensee.

f. Rare Earth

In FY 2025, the NRC has allocated approximately $0.05 million in budgeted resources to this fee class; however, because all the budgeted resources will be recovered through service fees assessed under 10 CFR part 170, the NRC will not assess or collect annual fees in FY 2025 for this fee class.

g. Materials Users

The NRC will collect $46.7 million in annual fees from materials users licensed under 10 CFR parts 30, 40, and 70 in FY 2025, as shown in table XVI of this document. The FY 2024 materials users fees are shown for comparison purposes.

Table XVI—Annual Fee Summary Calculations for Materials Users
[Dollars in millions]
Summary fee calculations | FY 2024 final rule | FY 2025 final rule
Total budgeted resources for licensees not regulated by Agreement States | $44.3 | $45.1
Less estimated 10 CFR part 170 receipts | −0.8 | −0.8
Net 10 CFR part 171 resources | 43.5 | 44.3
Allocated generic transportation | 2.6 | 2.2
LLW surcharge | 0.1 | 0.1
Billing adjustments | 0.1 | 0.1
Total required annual fee recovery | $46.3 | $46.7

In comparison to FY 2024, there is an increase in the total budgeted resources allocated to the materials users fee class. This increase is primarily due to: (1) an increase in mission information technology for multiple systems; and (2) an increase in the fully-costed FTE rate compared to FY 2024.

To equitably and fairly allocate total required annual fee recovery of $46.7 million among approximately 2,300 diverse licensees in the fee class, the NRC continues to calculate the annual fees for each fee category based on the 10 CFR part 170 application fees and estimated inspection costs for each fee category. Because the application fees and inspection costs are indicative of the complexity of the materials license, this approach provides a proxy for allocating the generic and other regulatory costs to the diverse fee categories. This fee-calculation method also considers the inspection frequency (priority), which is indicative of the safety risk and resulting regulatory costs associated with the categories of licenses.

The methodology for calculating 10 CFR part 171 annual fees for the various categories of materials users in this fee class includes using a formula that is described in detail in the work papers. This formula considers application fees, inspection costs, inspection priority (or frequency), and unique category costs.

At a high level, this formula includes three main components: (1) recovery of general costs, (2) recovery of inspection costs, and (3) unique category costs. The total required annual fee recovery of $46.7 million for FY 2025, as shown in table XVI of this document, consists of $37.0 million for general costs (including the allocated generic transportation costs), and $9.6 million for inspection costs; there are no unique category costs for any fee categories in FY 2025. As part of calculating the recovery for the general costs and inspection costs, respectively, the NRC derives two multipliers: the constant multiplier and the inspection multiplier. Additional information concerning this formula can be found in the work papers.

A constant multiplier is established to recover the total general costs for the fee class ($37.0 million in FY 2025). To derive the constant multiplier, the general cost amount is divided by the sum of all fee categories (application fee plus the average inspection cost divided by inspection priority) then multiplied by the number of licensees. The average inspection cost is the average inspection hours for each fee category multiplied by the FY 2025 professional hourly rate of $318. The inspection priority is the interval between routine inspections, expressed in years. This calculation results in a constant multiplier of 1.38 for FY 2025.

The inspection multiplier is established to recover inspection costs for the fee class ($9.6 million in FY 2025). To derive the inspection multiplier, the inspection costs for the fee class are divided by the sum of all fee categories (average inspection cost divided by inspection priority) then multiplied by the number of licensees. This calculation results in an inspection multiplier of 1.88 for FY 2025.

Additionally, the unique category costs would recover costs unique to a particular fee category in FY 2025. As stated above, there are no unique category costs for FY 2025.

The annual fee being assessed to each licensee also takes into account a share of approximately $0.1 million in LLW surcharge costs allocated to the materials users fee class (see table IV, “Allocation of LLW Surcharge, FY 2025,” of this document). The LLW surcharge costs for the fee class are not included in the above-described formula; rather, the surcharge amount for the fee class is divided by the number of licensees and then assessed to each licensee. See the work papers for the LLW surcharge amount per licensee.

Based on the above-described calculations, the FY 2025 annual fees are decreasing for 8 fee categories and increasing for the remaining 48 of the fee categories within the materials users fee class. The increases for these fee categories range from approximately 1 percent to 24 percent compared to FY 2024. The increase for the 48 fee categories is primarily due to the following: (1) a decrease in the number of materials users licensees within those fee categories; and (2) an increase in the average inspection cost for these fee categories. The increase in the average inspection cost is due to an increase in the inspection hours for these fee categories based on the NRC's biennial review of inspection hours. The annual fee for each fee category is shown in the revision to § 171.16(d).

h. Transportation

The NRC will collect $2.0 million in annual fees to recover generic transportation budgeted resources in FY 2025, as shown in table XVII of this document. The FY 2024 fees are shown for comparison purposes.

Table XVII—Annual Fee Summary Calculations for Transportation
[Dollars in millions]
Summary fee calculations | FY 2024 final rule | FY 2025 final rule
Total budgeted resources | $13.0 | $11.8
Less estimated 10 CFR part 170 receipts | −2.4 | −3.3
Net 10 CFR part 171 resources | 10.6 | 8.6
Less generic transportation resources | −8.2 | −6.6
Billing adjustments | 0.0 | 0.0
Total required annual fee recovery | $2.3 | $2.0

In comparison to FY 2024, the FY 2025 annual fee for the transportation fee class is decreasing primarily due to a decrease in the budgeted resources and an increase in the 10 CFR part 170 estimated billings.

In FY 2025, the budgeted resources decreased due to the discontinuation of activities related to the Project Pele application. This decrease was partially offset by an increase in budgeted resources to support the rise in the fully-costed FTE rate compared to FY 2024.

Furthermore, the annual fee is also partially offset by an increase in the 10 CFR part 170 estimated billings primarily due to the following: (1) to support the NRC's review of new and amended transportation packages; and (2) to conduct inspection activities.

Consistent with the policy established in the NRC's FY 2006 final fee rule (71 FR 30722; May 30, 2006), the NRC recovers generic transportation costs unrelated to DOE by including those costs in the annual fees for licensee fee classes. The NRC continues to assess a separate annual fee under § 171.16, fee category 18.A., for DOE transportation activities. The amount of the allocated generic resources is calculated by multiplying the percentage of total CoCs used by each fee class (and DOE) by the total generic transportation resources to be recovered.

This resource distribution to the licensee fee classes and DOE is shown in table XVIII of this document. Note that for the non-power production or utilization facilities fee class, the NRC allocates the distribution to only those licensees that are subject to annual fees. Although five CoCs benefit the entire non-power production or utilization facilities fee class, only two out of 29 operating non-power production or utilization facilities licensees are subject to annual fees. Consequently, the number of CoCs used to determine the proportion of generic transportation resources allocated to annual fees for the non-power production or utilization facilities fee class has been adjusted to 0.3 so these licensees are charged a fair and equitable portion of the total fees (see the work papers).

Table XVIII—Distribution of Transportation Resources, FY 2025
[Dollars in millions]
Licensee fee class/DOE | Number of CoCs benefiting fee class or DOE | Percentage of total CoCs | Allocated generic transportation resources
Materials Users | 25.0 | 25.7 | $2.2
Operating Power Reactors | 6.0 | 6.2 | 0.5
Spent Fuel Storage/Reactor Decommissioning | 21.0 | 21.6 | 1.9
Non-Power Production or Utilization Facilities | 0.3 | 0.4 | 0.0
Fuel Facilities | 23.0 | 23.6 | 2.0
Subtotal of Generic Transportation Resources | 75.3 | 77.4 | 6.6
DOE | 22.0 | 22.6 | 1.9
Total | 97.3 | 100.0 | 8.6

The NRC assesses an annual fee to DOE based on the number of 10 CFR part 71 CoCs held by DOE. The NRC, therefore, does not allocate these DOE-related resources to other licensees' annual fees because these resources specifically support DOE.

FY 2025—Policy Change

The NRC is making one policy change—establishing a Reduced Hourly Rate for advanced nuclear reactor applicants and pre-applicants for certain activities as required by section 201 of the ADVANCE Act—for FY 2025. As explained in the following discussion, based on the NRC's consideration of public comments on the proposed rule and the clearly demonstrated legislative intent of the ADVANCE Act, this final rule includes changes that expand the eligibility for the Reduced Hourly Rate.

Reduced Hourly Rate for Advanced Nuclear Reactor Applicants and Pre-Applicants

As described in Section I, “Background; Statutory Authority” of this document, section 201 of the ADVANCE Act requires the NRC to assess a Reduced Hourly Rate for advanced nuclear reactor applicants and pre-applicants for certain activities. This section discusses the who, what, and how for the NRC's implementation of section 201, including a discussion of changes to the rule upon consideration of public comments on the proposed rule. Specifically, the discussion is organized to answer the following questions: (1) who qualifies for the Reduced Hourly Rate; (2) what activities qualify for the Reduced Hourly Rate; and (3) how is the Reduced Hourly Rate calculated. As described in the FY 2025 proposed fee rule, the NRC is implementing section 201 in the FY 2025 fee rule to avoid burdens associated with having to delay billing for activities eligible for the Reduced Hourly Rate. This approach allowed for public notice and comment before the October 1, 2025 (FY 2026), statutory effective date, and aided NRC efforts to provide greater regulatory certainty to external stakeholders.

a. Who qualifies for the reduced hourly rate?

Section 201 of the ADVANCE Act amends NEIMA to require the NRC to assess a Reduced Hourly Rate to advanced nuclear reactor applicants and pre-applicants for certain activities. Section 201 of the ADVANCE Act amends NEIMA to add new definitions for the terms “advanced nuclear reactor applicant” and “advanced nuclear reactor pre-applicant.” These definitions are limited to provisions in NEIMA and do not alter the meaning of similar terms as used in other statutes, such as the Atomic Energy Act (AEA), or regulations implementing statutes other than NEIMA. The definition added to NEIMA for an advanced nuclear reactor pre-applicant is “an entity that has submitted to the [NRC] a licensing project plan for the purposes of submitting a future application for a license for an advanced nuclear reactor under the [AEA].⁶ The definition added to NEIMA for an advanced nuclear reactor applicant is “an entity that has submitted to the [NRC] an application for a license for an advanced nuclear reactor under the [AEA].” ⁷ After the NRC grants or denies the application or if the application is withdrawn, the entity would no longer qualify as an advanced nuclear reactor applicant for that application.

⁶ Public Law 118-67, div. B, § 201(a)(3) (to be codified at 42 U.S.C. 2215 note).

⁷ Public Law 118-67, div. B, § 201(a)(2) (to be codified at 42 U.S.C. 2215 note).

The definitions added to NEIMA for both an advanced nuclear reactor applicant and an advanced nuclear reactor pre-applicant are not limited to commercial licenses under AEA section 103. The definitions added to NEIMA for both an advanced nuclear reactor applicant and an advanced nuclear reactor pre-applicant apply to any advanced nuclear reactor, as defined by NEIMA section 3(1), for which an “application for a license” is pursued. Neither NEIMA nor the ADVANCE Act includes a definition for the term “license.”

In the FY 2025 proposed fee rule, the NRC proposed defining an advanced nuclear reactor applicant as an entity that has submitted an application for an operating license, combined license, or manufacturing license for an advanced nuclear reactor as defined in NEIMA. Under the proposed rule, other types of advanced nuclear reactor applications (e.g., for construction permits and design certifications) could still have been able to qualify for the Reduced Hourly Rate as advanced nuclear reactor pre-applicants. As discussed in Section IV, Public Comments and NRC Responses, the NRC received a number of comments encouraging the NRC to expand the proposed definition of advanced nuclear reactor applicant to include applicants for construction permits, early site permits, design certifications, limited work authorizations, and standard design approvals.

Upon further consideration and in response to these comments, the NRC has revised the definition of “advanced nuclear reactor applicant” to include applications that may be used as part of a phased approach to licensing. Under the revised definition, “advanced nuclear reactor applicant” means an entity that has submitted to the Commission a “qualifying application.” “Qualifying application” is defined as an application that (1) is for an advanced nuclear reactor, as defined in section 3 of NEIMA; and (2) is for an operating license, combined license, manufacturing license, construction permit, early site permit, limited work authorization, design certification, or standard design approval. Conforming changes were also made to the definition of advanced nuclear reactor pre-applicant.

The NRC has determined that this broader approach is more consistent with the purpose of the statute and clearly demonstrated legislative intent. In particular, this broader approach is supported by the legislative history associated with the ADVANCE Act. This legislative history associated with the Reduced Hourly Rate provisions clearly demonstrates a legislative intent for the phrase “application for a license,” for purposes of the Reduced Hourly Rate provisions added by the ADVANCE Act to NEIMA, to cover an application that may be submitted to obtain a license or used as part of a phased approach to licensing. For example, the Senate Report associated with the ADVANCE Act specifically references vendors, which can submit applications for design certifications and standard design approvals that may be used by any entity as part of a phased approach to licensing, in the discussion of the Reduced Hourly Rate provisions: “For some nuclear energy vendors, especially those seeking to license very small nuclear power systems, the current rate under NEIMA is burdensome.” S. Rep. No. 118-182, at 6 (2024). The House Report associated with the House's precursor bill to the ADVANCE Act also contains language demonstrating that the Reduced Hourly Rate provisions were intended to apply to fees charged for applications that may be used as part of a phased approach to licensing: “Reducing fees charged in the licensing process for advanced technologies will reduce barriers to entry without removing the financial incentive to produce quality applications.” H.R. Rep. No. 118-391, pt. 1, at 28 (2024).

Accordingly, consistent with the clearly demonstrated purpose behind the Reduced Hourly Rate provisions added by the ADVANCE Act to NEIMA, advanced nuclear reactor applicants for these provisions include entities that submit applications for licenses under the AEA (i.e., operating licenses, combined licenses, manufacturing licenses, construction permits, and early site permits) as well as applications that may be used as part of a phased approach to licensing (i.e., limited work authorizations, design certifications, and standard design approvals). As such, the revised definition of advanced nuclear reactor applicant in this final rule allows for a broader set of applications to qualify under the definition of advanced nuclear reactor applicant.

While the revised definition of “advanced nuclear reactor applicant” is broader than in the proposed rule, like in the proposed rule, the revised definition continues to maintain that a qualifying application must still be for an “advanced nuclear reactor,” as defined in section 3 of NEIMA. Consistent with the text of NEIMA, the NRC intends to broadly apply the term “advanced nuclear reactor” to a wide variety of technologies for the purposes of determining eligibility for the Reduced Hourly Rate.

Therefore, consistent with the definitions added by section 201 of the ADVANCE Act to NEIMA, the NRC is amending § 170.3, “Definitions,” to include definitions for the terms “advanced nuclear reactor applicant,” “advanced nuclear reactor pre-applicant,” and “qualifying application.” Specifically, the NRC is defining the term “advanced nuclear reactor applicant” in § 170.3, “Definitions,” as an entity that has submitted to the Commission a “qualifying application,” as defined in 10 CFR part 170. The NRC is defining the term “advanced nuclear reactor pre-applicant” in § 170.3, “Definitions,” as an entity that has submitted to the Commission a licensing project plan for the purposes of submitting a future “qualifying application,” as defined in 10 CFR part 170. Finally, the NRC is defining the term “qualifying application” in § 170.3, “Definitions,” as an application that (1) is for an advanced nuclear reactor as defined in section 3 of NEIMA (42 U.S.C. 2215 note); and (2) is for an operating license, combined license, manufacturing license, construction permit, early site permit, limited work authorization, design certification, or standard design approval.

b. What activities qualify for the reduced hourly rate?

Section 201 of the ADVANCE Act amends NEIMA to require the NRC to assess the Reduced Hourly Rate only for certain activities. For advanced nuclear reactor applicants, section 201 requires the NRC to apply the Reduced Hourly Rate for fees assessed “relating to the review of [the] submitted application.” For advanced nuclear reactor pre-applicants, section 201 requires the NRC to apply the Reduced Hourly Rate for fees assessed “relating to the review of submitted materials as described in the licensing project plan.” Therefore, to qualify for the Reduced Hourly Rate, an activity must relate to the review of (1) an advanced nuclear reactor applicant's qualifying application; or (2) an advanced nuclear reactor pre-applicant's submitted materials as described in its licensing project plan. As explained in Section IV, Public Comments and NRC Responses, many advanced nuclear reactor stakeholders commonly use the term “regulatory engagement plan” in lieu of the term “licensing project plan.” For the purposes of determining eligibility for the Reduced Hourly Rate, the NRC understands the terms “licensing project plan” and “regulatory engagement plan” to be synonymous, as both can satisfy the definition of a licensing project plan under section 3 of NEIMA.

The following non-exhaustive list of examples illustrates the types of activities that may qualify for the Reduced Hourly Rate. The following examples are simplified scenarios that assume each entity is pursuing only one licensing project before the NRC. The NRC acknowledges that an entity could also be in various stages of the licensing process for multiple projects, and as such, an entity could be an advanced nuclear reactor applicant for the purposes of one or more applications and an advanced nuclear reactor pre-applicant for other future applications.

Example 1: Entity A has submitted a qualifying application (e.g., for a construction permit) for an advanced nuclear reactor as defined in NEIMA (Entity A's Qualifying Application). Entity A is thus an advanced nuclear reactor applicant for the purposes of determining eligibility for the Reduced Hourly Rate. If the NRC holds a public meeting to gather comments on the scope of the associated environmental review, fees assessed to Entity A for that public meeting would use the Reduced Hourly Rate because that public meeting relates to the review of Entity A's Qualifying Application.

Example 2: The same entity, Entity A, submits a topical report for NRC staff review to be incorporated in Entity A's Qualifying Application to address an underlying issue identified during NRC review of Entity A's Qualifying Application. Fees assessed to Entity A for the review of the topical report would be assessed at the Reduced Hourly Rate because the review of the topical report relates to the review of Entity A's Qualifying Application.

Example 3: The same entity, Entity A, submits a different topical report for NRC staff review that is unrelated to the review of Entity A's Qualifying Application. Fees assessed to Entity A for the review of the topical report would not be assessed at the Reduced Hourly Rate and would instead be assessed at the full-cost professional hourly rate. Although the review of the topical report could qualify for the Reduced Hourly Rate if the entity also qualified as an advanced nuclear reactor pre-applicant, the examples assume each entity is pursuing only one licensing project before the NRC.

Example 4: Entity B has submitted a licensing project plan for the purpose of submitting a future qualifying application (e.g., for an operating license) for an advanced nuclear reactor as defined in NEIMA. Entity B is thus an advanced nuclear reactor pre-applicant for the purposes of determining eligibility for the Reduced Hourly Rate. Entity B's licensing project plan includes sufficient information about a topical report that Entity B plans to submit for NRC staff review that it intends to reference in its future qualifying application. Entity B would be assessed fees at the Reduced Hourly Rate for the NRC staff's review of that topical report because it relates to the review of submitted material as described in Entity B's licensing project plan.

Example 5: The same entity, Entity B, submits a different topical report. However, Entity B's licensing project plan does not describe this topical report, nor does Entity B revise its licensing project plan to do so. Fees assessed to Entity B for the review of this topical report would not be assessed at the Reduced Hourly Rate and would instead be assessed at the full-cost professional hourly rate.

Consistent with the language added by section 201 of the ADVANCE Act to NEIMA, the NRC is including language in § 170.20, “Average cost per professional staff-hour,” to make clear what activities qualify for the Reduced Hourly Rate. Consistent with the statutory effective date, the NRC is specifying in § 170.20(b)(2) that effective on October 1, 2025 (FY 2026), fees under § 170.21 relating to the review of the submitted application for the advanced nuclear reactor applicant will be calculated using the Reduced Hourly Rate. The NRC is specifying in § 170.20(c)(2) that effective on October 1, 2025 (FY 2026), fees under § 170.21 relating to the review of submitted materials as described in the licensing project plan for an advanced nuclear reactor pre-applicant will be calculated using the Reduced Hourly Rate.

c. How is the reduced hourly rate calculated?

Section 201 of the ADVANCE Act amends NEIMA to specify that the Reduced Hourly Rate is the FTE rate for mission-direct program salaries and benefits for the Nuclear Reactor Safety Program, divided by the productive hours assumption, for that fiscal year. The methodology for calculating the Reduced Hourly Rate is similar to that of the professional hourly rate, discussed in Section II, Discussion, “FY 2025 Fee Collection—Professional Hourly Rate,” but with certain budgeted resources not included. Under section 201 of the ADVANCE Act, the Reduced Hourly Rate does not include mission-direct program salaries and benefits for the Nuclear Materials and Waste Safety Program, mission-indirect program support for the Nuclear Reactor Safety Program and the Nuclear Materials and Waste Safety Program, and agency support.

The NRC's methodology for calculating the Reduced Hourly Rate in this final rule is the same as described in the proposed rule. Specifically, the NRC is calculating the Reduced Hourly Rate by taking the budgeted resources for the mission-direct program salaries and benefits for the Nuclear Reactor Safety Program, then dividing this total by the mission-direct FTE for the Nuclear Reactor Safety Program converted to hours. This methodology follows section 201 of the ADVANCE Act because the FTE rate for mission-direct program salaries and benefits for the Nuclear Reactor Safety Program is derived by dividing the budgeted resources for the mission-direct program salaries and benefits for the Nuclear Reactor Safety Program by the mission-direct FTE for the Nuclear Reactor Safety Program. The mission-direct FTE for the Nuclear Reactor Safety Program converted to hours is the product of the mission-direct FTE for the Nuclear Reactor Safety Program multiplied by the estimated annual mission-direct FTE productive hours. The productive hours assumption refers to the estimated annual mission-direct FTE productive hours.

The following shows the Reduced Hourly Rate calculation:

Thus, the Reduced Hourly Rate is $148 per hour and represents an over 50 percent reduction from the full-cost professional hourly rate of $318 per hour. The following table shows the Reduced Hourly Rate calculation methodology.

Reduced Hourly Rate Calculation
[Dollars in millions, except as noted]
| FY 2025 final rule
Mission-Direct Budgeted Resources for the Nuclear Reactor Safety Program | $297.5
Mission-Direct FTE for the Nuclear Reactor Safety Program | 1,332.9
Annual Mission-Direct FTE Productive Hours (Whole numbers) | 1,507
Mission-Direct FTE for the Nuclear Reactor Safety Program Converted to Hours (Mission-Direct FTE for the Nuclear Reactor Safety Program multiplied by Annual Mission-Direct FTE Productive Hours) (Whole Numbers) | 2,008,680
Reduced Hourly Rate (Mission-Direct Budgeted Resources for the Nuclear Reactor Safety Program Divided by Mission-Direct FTE for the Nuclear Reactor Safety Program Converted to Hours) (Whole Numbers) | $148

Both the professional hourly rate and the Reduced Hourly Rate are reflected in revisions to § 170.20 in this final rule. Specifically, the NRC is amending § 170.20 to establish two hourly rates: (1) the professional hourly rate at $318 per hour, as described in Section II, Discussion, “FY 2025 Fee Collection—Professional Hourly Rate,” of this document; and (2) the Reduced Hourly Rate at $148 per hour, as described here. The professional hourly rate is effective August 25, 2025, coinciding with the effective date of this final rule. For the Reduced Hourly Rate, the amendments to § 170.20 include language indicating that the Reduced Hourly Rate does not take effect until October 1, 2025 (FY 2026), consistent with the statutory effective date in section 201 of the ADVANCE Act. Further, the revisions to § 170.20 include a statement sunsetting the applicability of the Reduced Hourly Rate for advanced nuclear reactor pre-applicants on September 30, 2030, consistent with the statutory sunset date. In addition, the NRC is amending footnote 2 to table 1 of § 170.21 to clarify that full cost fees will be determined based on either the professional hourly rate or the Reduced Hourly Rate, effective October 1, 2025 (FY 2026).

Both the professional hourly rate and the Reduced Hourly Rate provided in this final rule are based on the Full-Year Continuing Resolution.

FY 2025—Administrative Changes

The NRC is not proposing any administrative changes in FY 2025.

III. Public Comment Analysis

Overview of Public Comments

The NRC published a proposed rule on February 19, 2025 (90 FR 9848) and requested public comment on its proposed revisions to 10 CFR parts 170 and 171. By the close of the comment period, the NRC received sixteen written comment submissions on the FY 2025 proposed rule. In general, commenters were supportive of the specific proposed regulatory changes, although most commenters expressed concerns about broader fee policy issues related to the overall size of the NRC's budget, fairness of fees, transparency, and budget formulation. Some commenters' concerns were outside the scope of the fee rule.

The commenters are listed in table XIX of this document.

Table XIX—FY 2025 Final Fee Rule Commenter Submissions
Commenter | Affiliation | ADAMS accession No.
Colin Gold | Self | ML25056A024
Kathy Edwards | Aerotest Operation, Inc (Aerotest) | ML25069A394
Thomas Newton | National Institute of Standards and Technology (NIST) | ML25073A008
Wayne A. Norton | Decommissioning Plant Coalition (DPC) | ML25073A012
Peter S. Hastings | Kairos Power, LLC (Kairos Power) | ML25083A075
Spencer Toohill | The Breakthrough Institute (Breakthrough Institute) | ML25083A229
Nicholas McMurray | ClearPath | ML25083A230
Judi Greenwald | Nuclear Innovation Alliance (NIA) | ML25083A231
Jennifer Uhle | Nuclear Energy Institute (NEI) | ML25083A232
Malcolm Thompson | Deep Fission, Inc. (Deep Fission) | ML25083A233
Ian Gifford | TerraPower, LLC (TerraPower) | ML25083A234
Holly Harvey | Urenco USA (UUSA) | ML25083A235
Gabrielle Schreier | GE Hitachi Nuclear Energy | ML25083A236
David Terry | National Association of State Energy Officials (NASEO) | ML25083A237
D W Gregoire | Energy Northwest | ML25083A238
Alan Ahn | Third Way | ML25083A239

Information about obtaining the complete text of the comment submissions is provided in the “Availability of Documents” section of this document.

IV. Public Comments and NRC Responses

The NRC has carefully considered the public comments received on the proposed rule. The comments have been organized by topic. Comments from multiple commenters raising similar specific concerns were combined to capture the common issues raised by the commenters. Comments from a single commenter have largely been quoted to ensure accuracy; brackets within those comments are used to show changes that have been made to the quoted comments.

A. Reduced Hourly Rate: Definition of Advanced Nuclear Reactor Applicant

Comment: Most of the commenters generally support implementation of section 201 of the ADVANCE Act in this rule. (Colin Gold, Breakthrough Institute, ClearPath, NIA, NEI, Deep Fission, TerraPower, NASEO, Energy Northwest, and Third Way). While commenters generally support the Reduced Hourly Rate, a majority of commenters suggested that the definition of “advanced nuclear reactor applicant” in the proposed rule should be expanded to also include applications for construction permits, early site permits, limited work authorizations, design certifications, and standard design approvals. Commenters asserted that such revisions would be more consistent with the text and intent of NEIMA and the ADVANCE Act, avoid unnecessary administrative burdens, and provide greater clarity and efficiency, among other things. (Kairos Power, Breakthrough Institute, ClearPath, NIA, NEI, TerraPower, NASEO, Energy Northwest, and Third Way).

Response: The NRC agrees with these comments. Upon further consideration, the NRC agrees that the Reduced Hourly Rate provisions added by the ADVANCE Act to NEIMA cover a broader range of applications than envisioned by the proposed rule. In the proposed rule, the NRC proposed defining an advanced nuclear reactor applicant as an entity that has submitted an application for an operating license, combined license, or manufacturing license for an advanced nuclear reactor. An entity submitting other types of advanced nuclear reactor applications (e.g., for construction permits and design certifications) would have been able to qualify for the Reduced Hourly Rate as an advanced nuclear reactor pre-applicant, if the entity submitted a qualifying licensing project plan.

However, several commenters rightly assert that the definition of advanced nuclear reactor applicant in the proposed rule would be inconsistent with the purpose of the statute, and the legislative history associated with the ADVANCE Act supports a broader definition of advanced nuclear reactor applicant. See, e.g., S. Rep. No. 118-182, at 6 (2024); H.R. Rep. No. 118-391, pt. 1, at 28 (2024). Accordingly, consistent with the clearly demonstrated purpose behind the Reduced Hourly Rate provisions added by the ADVANCE Act to NEIMA, advanced nuclear reactor applicants for these provisions include entities that submit applications for licenses under the AEA (i.e., operating licenses, combined licenses, manufacturing licenses, construction permits, and early site permits) as well as applications that may be used as part of a phased approach to licensing (i.e., limited work authorizations, design certifications, and standard design approvals). As a result, for advanced nuclear reactor applicants, the NRC will apply the Reduced Hourly Rate to fees assessed relating to the review of submitted applications for operating licenses, combined licenses, manufacturing licenses, construction permits, early site permits, limited work authorizations, design certifications, and standard design approvals.

In response to these comments, the NRC has revised the new definition of “advanced nuclear reactor applicant,” added a definition for “qualifying application,” and made conforming changes to the new definition of “advanced nuclear reactor pre-applicant.” Specifically, “advanced nuclear reactor applicant” is defined as “an entity that has submitted to the Commission a ‘qualifying application,’ as defined in this part.” A “qualifying application” is then separately defined as “an application that (1) is for an advanced nuclear reactor as defined in section 3 of the Nuclear Energy Innovation and Modernization Act (42 U.S.C. 2215 note); and (2) is for an operating license, combined license, manufacturing license, construction permit, early site permit, limited work authorization, design certification, or standard design approval.” An “advanced nuclear reactor pre-applicant” is defined as “an entity that has submitted to the Commission a licensing project plan for the purposes of submitting a future ‘qualifying application,’ as defined in this part.”

B. Reduced Hourly Rate: Applicability to Other Entities

Comment: At least two commenters suggested that NRC review of topical reports should qualify for the Reduced Hourly Rate. (NEI, Breakthrough Institute).

Response: The NRC agrees in part and disagrees in part with these comments. The NRC disagrees with these comments to the extent that they suggest an entity can qualify as an “advanced nuclear reactor applicant” solely by virtue of submitting a topical report. As discussed in the preceding comment response, a qualifying application means an application for an operating license, combined license, manufacturing license, construction permit, early site permit, limited work authorization, design certification, or standard design approval. However, the NRC agrees that the review of a topical report may still qualify for the Reduced Hourly Rate. An entity may still be able to qualify for the Reduced Hourly Rate for fees assessed for the review of a topical report where (1) an advanced nuclear reactor pre-applicant describes the topical report in its licensing project plan, or (2) where an entity that is otherwise an advanced nuclear reactor applicant submits a topical report for review to be incorporated in its qualifying application.

No changes were made to the final rule as a result of this comment.

C. Reduced Hourly Rate: Clarification of Applicability to Pre-Application Activities

Comment: Several commenters made suggestions or sought clarification on the eligibility for the Reduced Hourly Rate for other pre-application activities, including topical report reviews, white paper reviews, technical report reviews, regulatory framework reviews, readiness reviews, site-specific evaluations, technical discussions, audits, and staff or public meetings, among other things. (Breakthrough Institute, ClearPath, Kairos Power, NIA). One commenter suggested that the NRC should define “pre-application” in this rulemaking. (Breakthrough Institute). One commenter suggested that inclusion in a licensing project plan should not be necessary for an advanced nuclear reactor pre-applicant to receive the Reduced Hourly Rate for review of a submittal. (Kairos Power).

Response: The NRC agrees in part and disagrees in part with these comments. The NRC agrees that a variety of pre-application activities can qualify for the Reduced Hourly Rate but disagrees that the Reduced Hourly Rate for pre-applicants does not depend on whether the pre-applicant included the material in its licensing project plan and that “pre-application” should be defined in this rulemaking. Consistent with the Reduced Hourly Rate provisions added by the ADVANCE Act to NEIMA, whether a pre-application activity qualifies for the Reduced Hourly Rate depends on whether the activity “relat[es] to the review of submitted materials as described in the licensing project plan.” Section II, Discussion, “FY 2025—Policy Changes,” of this document provides several examples to help illustrate the types of activities that may qualify for the Reduced Hourly Rate as “relating to the review of submitted materials as described in the licensing project plan.”

No changes were made to the final rule as a result of these comments.

D. Reduced Hourly Rate: Clarification of “Licensing Project Plan”

Comment: Several commenters suggested that the NRC clarify that “licensing project plan” as the term is used in the definition of advanced nuclear reactor pre-applicant is synonymous to the term “regulatory engagement plan” as commonly used by industry stakeholders. (Kairos Power, Breakthrough Institute, ClearPath). Commenters also suggested that the NRC take a flexible approach in terms of allowing plans to evolve over time and the level of detail required. (Breakthrough Institute, ClearPath). One commenter also stated that “[t]he NRC should ensure that pre-applicants submitting a Qualifying Licensing Project Plan are eligible for the reduced fee without an immediate obligation to submit a full license application,” and that “the NRC should also confirm that the reduced fee rate applies for the full duration of pre-application engagement[.]” (Breakthrough Institute).

Response: The NRC agrees with these comments. The NRC agrees that, for the purposes of determining eligibility for the Reduced Hourly Rate for an advanced nuclear reactor pre-applicant, the terms “licensing project plan” and “regulatory engagement plan” are synonymous as both can satisfy the definition of a licensing project plan under section 3 of NEIMA. As defined in section 3 of NEIMA, a licensing project plan is “a plan that describes—(A) the interactions between an applicant and the Commission; and (B) project schedules and deliverables in specific detail to support long-range resource planning undertaken by the Commission and an applicant.”

The NRC also agrees that the licensing project plan may describe a broad array of activities eligible for the Reduced Hourly Rate. The NRC recognizes that licensing project plans are also able to evolve over time. Some pre-applicants update their plans periodically, for example, on a quarterly basis. In addition, the NRC agrees that there is no specific time period by which an advanced nuclear reactor pre-applicant must submit a qualifying application. However, the availability of the Reduced Hourly Rate for pre-applicants is time-limited as the Reduced Hourly Rate sunsets for pre-applicants on September 30, 2030, after which only advanced nuclear reactor applicants will be eligible for the Reduced Hourly Rate.

Lastly, the NRC agrees that the material described in a licensing project plan does not need to be overly specific, but the material must be described with enough specificity for the NRC to understand the nexus of the material to a future qualifying application.

In response to this comment, the NRC clarified in the preamble of this rule that “licensing project plan,” as the term is used in the definition of advanced nuclear reactor pre-applicant, is synonymous to the term “regulatory engagement plan.” No changes to the rule text were made as a result of this comment.

E. Reduced Hourly Rate: Definition of Advanced Nuclear Reactor Under NEIMA

Comment: Several commenters suggested that the NRC clarify the types of advanced nuclear reactors eligible for the Reduced Hourly Rate. Commenters suggested that the definition of advanced nuclear reactor in NEIMA applies to a wide variety of technologies, including Generation III+ SMRs, non-LWRs, micro-reactors, and some Gen III+ large LWRs. Commenters further stated that this approach would align with the intent of NEIMA and the ADVANCE Act to facilitate the licensing of a broad array of innovative reactor technologies. (NEI, GE Hitachi Nuclear Energy, NASEO).

Response: The NRC agrees in part and disagrees in part with these comments. The NRC agrees that the definition of “advanced nuclear reactor” in NEIMA is broad, and the NRC intends to apply it to a wide variety of technologies for the purposes of determining eligibility for the Reduced Hourly Rate.

The NRC disagrees with these comments to the extent that commenters suggest the NRC separately define “advanced nuclear reactor” in this rulemaking. Among other things, section 201 of the ADVANCE Act amends NEIMA to add definitions for “advanced nuclear reactor applicant” and “advanced nuclear reactor pre-applicant.” Those statutory definitions use the term “advanced nuclear reactor,” which is also defined in NEIMA. In the same way, the new part 170 definitions for “advanced nuclear reactor applicant” and “advanced nuclear reactor pre-applicant” incorporate the statutory definition of “advanced nuclear reactor” in section 3 of NEIMA, which allows for the new part 170 definitions to cover a wide variety of reactors, including those using emergent technologies. Accordingly, the NRC disagrees that a separate definition for “advanced nuclear reactor” is needed in part 170. Consistent with section 3 of NEIMA, the NRC intends to apply the definition of advanced nuclear reactor broadly for the purposes of determining eligibility for the Reduced Hourly Rate.

No changes were made to the final rule as a result of this comment.

F. Reduced Hourly Rate: Quality of Reviews

Comment: One commenter suggested the NRC should clarify how the Reduced Hourly Rate may impact the quality of the NRC's licensing reviews for new reactors. (NASEO)

Response: The NRC is committed to providing an efficient and reliable licensing review regardless of whether an application qualifies for the Reduced Hourly Rate. Qualifying for the Reduced Hourly Rate will not affect the processes by which an application is reviewed or the resources dedicated to the review. As such, implementation of the Reduced Hourly Rate will have no impact on the quality of the NRC's licensing reviews.

No changes were made to the final rule as a result of this comment.

G. Reduced Hourly Rate: Out of Scope

Comment: Two commenters suggested that the NRC consider adopting other kinds of reduced or excluded rates, including a fee exclusion for application reviews and pre-application activities for early mover states with no existing nuclear reactors, a reduced rate for batching applications for multiple sites within a state, reductions for first-of-a-kind deployments, or expanding the eligibility for pre-applicants beyond 2030. (NASEO, Colin Gold)

Response: These suggestions are beyond the scope of what is required by section 201 of the ADVANCE Act and the policy change in this fee rulemaking is intended to implement the requirements of section 201 of the ADVANCE Act.

No changes were made to the final rule as a result of this comment.

H. Excluded Activities

Comment: One commenter asked what is included in the Medical Isotope Production Infrastructure fee-relief category and how to apply for inclusion into this activity. In addition, this commenter wanted to know if the costs not recovered from small entity status applies to licensees that have a part 30, 40, 70, 71, or 76 license and a 10 CFR part 50 license for medical isotopes. (Aerotest)

Response: Since the FY 2012 final fee rule (77 FR 35809; June 15, 2012), the NRC has identified medical isotope production as a fee-relief activity.The budgeted resources for activities related to medical isotope production are not attributable to any existing NRC licensees as there are no operating medical isotope production facilities. Entities do not apply for inclusion in a fee-relief activity. Rather, fee-relief activities are identified by the Commission.

To the second question, the NRC's requirements for small entity classification only apply to certain types of licensees and do not apply to part 50 or part 52 licensees. 10 CFR 171.16(c) states “[a] licensee who is required to pay an annual fee under this section, in addition to 10 CFR part 72 licenses, may qualify as a small entity.” Licensees who are required to pay annual fees under 10 CFR 171.16 are 10 CFR part 30 (byproduct material), part 40 (source material), part 70 (special nuclear material), part 71 (packaging and transportation of radioactive material) and part 72 (independent storage of spent nuclear fuel) licensees. Part 50 and 52 licensees are not “required to pay fees” under 10 CFR 171.16; rather, Part 50 and 52 licensees are required to pay fees under 10 CFR 171.15.

No changes were made to the final rule as a result of these comments.

I. Non-Power Production or Utilization Facilities Fee Class: Annual Fees

Comment: One commenter asked who are the three non-power production or utilization facilities in FY 2024 and who are the two facilities in FY 2025. In addition, the commenter wanted to know why this class of license fees increased so much compared to the other fee classes. (Aerotest)

Response: As shown in the FY 2024 fee rule work papers, the non-power production or utilization facilities licensees subject to annual fees in FY 2024 were Dow Chemical, General Electric (GE) Hitachi, and NIST. As shown in the FY 2025 work papers, the non-power production or utilization facilities licensees subject to annual fees in FY 2025 are Dow Chemical and NIST due to the shutdown of the GE Hitachi Vallecitos Nuclear Center in FY 2024.

While the NRC proposed a decrease in the total required annual fee recovery for the non-power production or utilization facilities fee class in FY 2025 proposed fee rule, the total annual fee per licensee was estimated to increase primarily due to a decrease in the number of licensees in this fee class. However, in this final rule, the annual fee per non-power production or utilization facility licensee is decreasing from approximately $972,000 in FY 2024 to approximately $968,000 in FY 2025.

The FY 2025 proposed rule was based on the FY 2025 budget request because a full-year appropriation for FY 2025 had not been enacted at the time of the proposed rule's publication. This final rule is based on the enacted budget in the Full-Year Continuing Resolution. Based on the Full-Year Continuing Resolution, the budgeted resources allocated to the non-power production or utilization facilities fee class in this final fee rule is approximately $782,000, a decrease of approximately $144,000 compared to the FY 2025 proposed rule.

No change was made to this final rule in response to this comment.

J. Non-Power Production or Utilization Facilities Fee Class: Fee Structure

Comment: One commenter suggested that “it is difficult to see how the proposed rule meets the intent of the AEA, as the fees impose an increasing burden on the two remaining licensees, further reducing resources that would otherwise be available for research and development. We urge the NRC to make a wholesale examination of the fee structure and how to best meet the national mission of education and research brought about by non-power production or utilization facilities, rather than undermining it by an increasingly disproportionate and unfair fee structure.” (NIST)

Response: The NRC disagrees with the comment that the NRC's fees for the non-power production or utilization facilities fee class are inconsistent with the intent of the AEA. The NRC acknowledges that the FY 2025 proposed fee rule estimated an increase in annual fees per non-power production or utilization facility licensee compared to FY 2024. However, in this final rule, the annual fee per non-power production or utilization facility licensee is decreasing from approximately $972,000 in FY 2024 to approximately $968,000 in FY 2025. The difference between the proposed and final rule here is due to a decrease in budgeted resources allocated to the fee class based on the enacted budget.

The NRC recognizes the impact of its budgeted resources on the fees for facilities involved in education, research, training, and outreach. The NRC is actively working to ensure fees remain stable, predictable, and equitable for the remaining licensees in the non-power production or utilization facilities fee class.

No change was made to this final rule in response to this comment.

K. Spent Fuel Storage and Decommissioning Fee Class

Comment: One commenter stated that “the way in which fees are calculated must change in the long term for [independent spent fuel storage installations] and decommissioning sites. As arguably the most passive regulated activity the agency conducts, and with the lowest risk profile of these activities, these areas deserve a differing treatment in calculation [of] the annual and hourly fees.” The commenter also stated that in the NRC's March 6, 2025, public meeting on this year's fee rule, the proposed fee rule “shows a 70 [percent] increase in annual fees for spent fuel storage and decommissioning fees over the past [five] years” and that, for their members' sites, “these activities produce no product and no income, and costs ultimately fall in large measure to the taxpayer (for fuel storage) via Judgement Fund reimbursements.” (DPC)

Response: The NRC acknowledges that the FY 2025 proposed rule estimated an increase in annual fees for the spent fuel storage/reactor decommissioning fee class compared to FY 2024. However, in this final rule, the annual fee per licensee remains the same as in FY 2024. The difference between the proposed and final rule here is due to a decrease in budgeted resources allocated to the fee class based on the enacted budget for FY 2025.

With respect to the comment's broader concern about changing the calculation of fees for the spent fuel storage/reactor decommissioning fee class, the NRC is mindful of the impact of its budgeted resources on the fees for the spent fuel storage/reactor decommissioning fee class that is assessed to 10 CFR part 50 and 10 CFR part 52 power reactor licensees, and to 10 CFR part 72 licensees that do not hold a 10 CFR part 50 license or a 10 CFR part 52 combined license. The spent fuel storage/reactor decommissioning fee class supports the activities of the spent fuel storage and transportation and the decommissioning and LLW business lines, including both direct-billable licensing actions and generic activities that indirectly support the agency's mission in these areas.

NEIMA requires the NRC to recover, to the maximum extent practicable, approximately 100 percent of its annual budget, less certain amounts excluded from this fee recovery requirement. NEIMA also requires that annual fees, to the maximum extent practicable, be reasonably related to the cost of providing regulatory services. As noted in the FY 1999 final fee rule establishing the fee class (64 FR 31448), the NRC believes that assessing a spent fuel storage/reactor decommissioning annual fee to all reactor licensees who have spent fuel onsite and all Part 72 licensees who do not hold a Part 50 license is a reasonable approach for recovering NRC costs for generic spent fuel storage and reactor decommissioning activities because it ensures that the licensees who benefit from the NRC's generic spent nuclear storage and reactor decommissioning activities bear a fair portion of these costs.

No changes were made to this final rule as a result of these comments.

L. Detailed Breakdown on Annual Fee Usage

Comment: One commenter stated that “the percentage of the NRC budget supported by annual fees. . .has risen substantially over the past 10 years. Despite being over 60 [percent] of the NRC budget, the proposed fee rule and associated work papers provide scarce information on how annual fees are utilized. We encourage the NRC to expand the information provided in the FY2025 final fee rule, and in future rules, to include a detailed breakdown on annual fee usage.” (NEI)

Response: The NRC continues to look for ways to enhance both the proposed and final fee rule work papers. The work papers that support the fee rule show in detail how the NRC allocates the budgeted resources for each class of licensees and calculates the annual fees. The NRC has made enhancements to the work papers every year since FY 2019 and will continue to look for ways to improve the work papers to provide more transparency regarding annual fees.

During budget formulation, the NRC estimates the budgeted resources it expects to be 10 CFR part 170 work (e.g., license application reviews) and what resources the NRC expects to be 10 CFR part 171 work. Budgeted 10 CFR part 171 work generally supports generic infrastructure activities such as rulemaking and guidance development. Once the NRC receives an enacted budget, budgeted resources are allocated among the fee classes as part of the fee rule process. The NRC recovers the costs of generic infrastructure activities that benefit a fee class through part 171 annual fees. Additionally, mission-indirect program support and agency support resources are allocated among the fee classes through the application of the professional hourly rate for part 170 fees and the fully-costed FTE rate for part 171 annual fees.

Annual fees can also be impacted when budgeted 10 CFR part 170 work does not materialize as expected due to circumstances like delayed or cancelled licensing submittals. Under NEIMA, the NRC must first collect service fees for NRC work that provides specific benefits to identifiable recipients. Because the NRC's fee recovery under 10 CFR part 170 will not equal 100 percent of the agency's total budget authority for the fiscal year (less the budget authority for excluded activities), the NRC also assesses annual fees under 10 CFR part 171 to recover the remaining amount necessary to comply with NEIMA. Estimated 10 CFR part 170 billings, therefore, are inversely related to the projected annual fee for a fee class. The less the NRC estimates to collect in 10 CFR part 170 billings, the more it assesses in 10 CFR part 171 annual fees.

No changes were made to the final rule as a result of these comments.

M. Rent Subsidy

Comment: One commenter stated that “the FY2025 budget includes approximately $6 million to subsidize rent for the Food and Drug Administration (FDA) and the National Institutes of Health (NIH). In its October 12, 2021, letter to Congress on the [NEIMA], NRC identified that over the course of this lease the nuclear industry will pay approximately $48 million to subsidize rent for the [FDA] and the [NIH] in the 3WFN building. These payments do nothing to support the agency's mission and should not be funded through fees collected from NRC licensees and, ultimately, electricity rate payers. We encourage the NRC to continue its discussions with Congress to remove these payments from the fee base.” (NEI)

Response: NEIMA requires the NRC to recover, to the maximum extent practicable, approximately 100 percent of its annual budget authority, less the budget authority for excluded activities. The Three White Flint subsidy is not currently an excluded activity under NEIMA.

No change was made to this final rule as a result of this comment.

N. Corporate Support Budget

Comment: One commenter stated, “We appreciate the NRC efforts to manage and reduce corporate support costs. However, these efforts do not appear to be effective. Under NEIMA, as modified by the ADVANCE Act, corporate support costs, to the maximum extent practicable, shall not exceed 30 [percent] of the total budget authority of the Commission. The corporate support budget for FY 2025 is 31.9 [percent] of total budget authority. This is a 1.7 [percent] increase over the FY 2024 value of 30.2 [percent]. We encourage NRC to double its efforts to reduce corporate support costs.” (NEI)

Response: The NRC continues to pursue efficiencies and other ways to reduce corporate support costs. Section 102(a)(3) of NEIMA requires that, to the maximum extent practicable, the corporate support costs requested in the annual budget justification provided to Congress not exceed a specified percentage of the total budget authority requested for the NRC in its annual budget justification (section 102(a)(3)(B) of NEIMA, as amended by the ADVANCE Act, includes the percentage applicable to the annual budget justification for FY 2025). As stated in the Executive Summary to the FY 2025 CBJ, the corporate support request was approximately 31.9 percent of the agency's total requested budget authority and reflects the agency's efforts to comply with the corporate support cap of section 102(a)(3) of NEIMA to the maximum extent practicable. Pages 79-81 of the FY 2025 CBJ provide more specific information on the corporate support costs by product line that comprised the 31.9 percent.

Section 102(a)(3) of NEIMA as it pertains to the corporate support cap applicable to the annual budget justification does not apply to the annual fee rule. The agency will continue efforts to implement efficiencies and invest resources in initiatives that will result in future savings in corporate support costs.

No changes were made to this final rule as a result of these comments.

O. Fuel Cycle Facilities: Annual Fees

Comment: One commenter stated that “While it is promising to see stable fees for fuel cycle facilities after two years of double-digit percentage point increases, fees for all facility categories remain above their 20-year averages. Furthermore, the FY 2025 annual fee for Category I fuel fabrication facilities surpasses that of a power reactor. This is inappropriate given the difference in hazard profiles and complexities between the two licensees.” (NEI)

Response: The NRC continues to be mindful of the impact of its budgeted resources on the fees for the fuel facilities fee class. To reduce the impact of this uncertainty on the annual fees for the fuel facilities fee class, the NRC staff is implementing a number of improvements to its budget formulation process geared toward enhancing the accuracy of its budget estimates. Specifically, for this effort, the staff performed an environmental scan, conducted extensive outreach, and reviewed historic application rates and delays. While the fuel facilities annual fees were estimated to be flat compared to FY 2024 in the proposed rule, annual fees decreased in this final rule. The difference between the proposed and final rule here is due to a decrease in budgeted resources allocated to the fee class based on the enacted budget.

Projected workload, which informs the agency budget, is largely based on information from licensees, applicants, and potential applicants. The NRC also continues to work with licensees, applicants, and potential applicants to obtain information to allow the agency to have high confidence in workload projections, and to communicate with external stakeholders during key points in the annual budget cycle where the NRC can best facilitate adjustments.

When formulating the budget, the NRC takes into consideration various factors, including workload forecasting, historical data and trends in the business line, information from licensees and potential applicants, and uncertainty of projections. The NRC assesses the current environment and performs workload forecasting, which includes looking for significant drivers that could impact future workload. These include, but are not limited to, technical and regulatory developments that have the potential to generate additional work or reduce work (i.e., pre-application activities and applications for new fuel facilities, potential major amendment requests and license termination requests, rulemaking activities, guidance development, and oversight of the fuel facilities program). When budgeted 10 CFR part 170 work (e.g., licensing and inspection activities charged to a single licensee) does not materialize as expected, significant changes to the annual fee for the fee class can result. Assessing the above workload forecasting factors enhances the accuracy of the agency's budget estimates to mitigate the risk of such changes to the annual fee for the fee class.

Although the NRC is mindful of the impact of its budgeted resources on the fees for the fuel facilities fee class, the fee class budget is not linearly proportional to the number of licensees in the fuel facilities fee class. Resources are required to develop and maintain the infrastructure independent of the number of operational fuel facilities. The fuel facilities business line must maintain certain minimum requirements in order to meet the NRC's regulatory and statutory oversight role. This includes maintaining expertise in a number of technical areas, including integrated safety analysis, radiation protection, criticality safety, chemical safety, fire safety, emergency management, environmental protection, decommissioning, management measures, material control and accounting, physical protection, and information security. Budgeted resources in technical areas are recovered through 10 CFR part 170 service fees as well as 10 CFR part 171 annual fees. Mission-indirect program support and agency support resources are allocated among the fee classes through the application of the professional hourly rate and the fully-costed FTE rate.

No changes were made to this final rule as a result of these comments.

P. Fuel Cycle Facilities: Effort Factor Matrix

Comment: One commenter stated that “Urenco USA (UUSA) supports the NRC in continuing to concentrate efforts in reducing the overall fee burden on the Fuel Cycle Facilities.” The commenter further stated that their current effort factor of 10 should be a 5 for the process of Enrichment Safeguards and that “UUSA is a Category III facility enriching to LEU levels and should not be classified at the same level as higher category facilities that perform higher enrichment.” In addition, the commenter stated that their Scrap/Waste safety factor should be 1, in lieu of 5, and that “[c]onsideration should be given to the volume and activity of radioactive waste generated at UUSA, compared to other Category III facilities. If the amount of waste generated at UUSA is lower in comparison to other Category III facilities, a reduced fee effort factor should be applied.” (UUSA)

Response: The NRC effort factors are based on the commensurate level of regulatory effort. The effort factors in the matrix represent non-billable, regulatory effort (e.g., rulemaking and guidance). The facility category and enrichment are only part of the factors that are considered when determining the effort factor for each process. The UUSA facility operations and requirements have not changed and therefore the level of regulatory effort and effort factor as it relates to Enrichment Safeguards remains unchanged.

In addition, the programmatic effort (expressed as a value in the matrix) reflects the safety and safeguards risk significance associated with the nuclear material and use/activity, and the commensurate generic regulatory program (i.e., scope, depth and rigor). While the amount of waste generated and stored, and the activity are evaluated, the effort factor for Scrap/Waste Safety is evaluated for individual facilities and not on a scale that compares facilities.

No changes were made to this final rule as a result of these comments.

V. Regulatory Flexibility Certification

As required by the Regulatory Flexibility Act of 1980, as amended (RFA),⁸ the NRC has prepared a regulatory flexibility analysis related to this final rule. The regulatory flexibility analysis is available as indicated in the “Availability of Documents” section of this document.

⁸ 5 U.S.C. 603. The RFA, 5 U.S.C. 601-612, has been amended by the Small Business Regulatory Enforcement Fairness Act of 1996, Public Law 104-121, Title II, 110 Stat. 847 (1996).

VI. Regulatory Analysis

Under NEIMA, the NRC is required to recover, to the maximum extent practicable, approximately 100 percent of its annual budget for FY 2025 less the budget authority for excluded activities. The NRC assesses two types of fees to meet the requirements of NEIMA. First, service fees, established in 10 CFR part 170 under the authority of the IOAA and NEIMA, recover the NRC's costs of providing specific benefits to identifiable recipients (such as licensing work, inspections, and special projects). Second, annual fees, established in 10 CFR part 171 under the authority of NEIMA, recover generic and other regulatory costs not otherwise recovered through 10 CFR part 170 fees.

With respect to 10 CFR part 170 service fees, this rule was developed under IOAA and NEIMA and consistent with OMB Circular A-25. NEIMA requires the NRC to “assess and collect fees,” in accordance with the IOAA, “from any person who receives a service or thing of value from the [NRC] to cover the costs to the [NRC] of providing the service or thing of value.”

With respect to 10 CFR part 171 annual fees, this rule was developed under NEIMA. NEIMA requires the NRC to “establish by rule a schedule” of annual fees that “fairly and equitably” allocate the aggregate amount of annual fees among licensees and certificate holders. NEIMA also requires that annual fees, “to the maximum extent practicable, shall be reasonably related to the cost of providing regulatory services.” Because part 170 service fees will not equal 100 percent of the agency's total budget authority for the fiscal year (less the budget authority for excluded activities), the NRC assesses part 171 annual fees to recover the remaining amount necessary to comply with NEIMA.⁹

⁹ The assessment of annual fees by the NRC began in FY 1987 to meet the requirements of Public Law 99-272, the Consolidated Omnibus Budget Reconciliation Act of 1985 (COBRA), which required the NRC to recover 33 percent of its budget authority. Subsequent legislation required the NRC to recover an increasing percentage of its budget authority. See e.g., Public Law 100-203, Omnibus Budget Reconciliation Act of 1987 (requiring that the NRC, for FYs 1988 and 1989, recover at least 45 percent of its budget authority in each fiscal year); Public Law 101-508, Omnibus Budget Reconciliation Act of 1990 (OBRA-90) (requiring that the NRC, for FYs 1991 through 1995, recover approximately 100 percent of its budget authority in each fiscal year less excluded amounts); Public Law 106-377, Energy and Water Development Appropriations Act, 2021 (amending OBRA-90 to decrease the NRC's fee recovery amount by 2 percent per fiscal year beginning in FY 2001, ending at 90 percent in FY 2005).

In the annual fee rule, the NRC adjusts its fees to recover its annual budget authority to ensure that the NRC complies with the statutory requirements for cost recovery. Similarly, in this final rule, the NRC has made adjustments to recover its annual budget authority consistent with the statutory fee recovery requirement. For this final rule, the NRC did not identify any alternatives to the current statutorily required fee structure. Further, NEIMA requires the NRC to establish its fee schedule by rule and thus the NRC did not identify any alternatives to rulemaking. However, the NRC did consider several alternatives to alleviate the significant impact of annual fees on a substantial number of small entities, in accordance with the RFA. Those alternatives include:

1. Basing fees on the amount of radioactivity possessed by the licensee (e.g., number of source).

2. Basing fees on the frequency of use of licensed radioactive material (e.g., volume of patients).

3. Basing fees on the NRC size standards for small entities.

The NRC has reexamined its previous evaluations of these alternatives and continues to believe that a maximum fee for small entities is the most appropriate and effective option for reducing the impact of fees on small entities.

The NRC also performed an analysis of the costs and benefits over FY 2025.¹⁰ Consistent with OMB Circular A-4, the fees charged by the NRC are considered transfer payments and therefore not part of the costs of this rulemaking.

¹⁰ The NRC selected FY 2025 as the time horizon for this rule because, consistent with NEIMA, this rule amends the NRC's fee regulations to allow the NRC to recover, to the maximum extent practicable, approximately 100 percent of its FY 2025 budget authority, minus the budget authority for excluded activities, by September 30, 2025 (the end of FY 2025).

OMB Circular A-4 directs agencies to report transfer payments from and to government agencies separately.¹¹ The two primary government agencies assessed fees are DOE and NIST. The NRC assesses fees to DOE to recover costs related to regulating DOE's Title I and Title II activities under UMTRCA. Additionally, the NRC assesses an annual fee to DOE based on the number of 10 CFR part 71 CoCs held by DOE. The NRC assesses fees to NIST as a member of the fuel facilities fee class for its license for possession and use of special nuclear material and as a member of the non-power production or utilization facilities fee class for its research reactor. The NRC also assesses fees to several federal agencies for a variety of small materials licenses. The fees assessed to government agencies, including both 10 CFR parts 170 and 171 fees, are identified below.

¹¹ Currently there are no State government agencies that hold an NRC license or are an NRC applicant and thus, no State government agencies are assessed fees under this rule.

Table XX—Fees Charged to Government Agencies
[Dollars in millions]
| FY 2024 final rule | FY 2025 final rule
DOE (Uranium Recovery) | $0.489 | $0.361
DOE (Transportation) | 2.571 | 2.576
NIST (Fuel Facilities) | 0.346 | 0.134
NIST (Non-power production or utilization facilities) | 0.310 | 0.187
Other Agencies (Materials Users) | 1.371 | 1.473
Total | 5.087 | 4.731

After accounting for the fees assessed to government agencies, the “adjusted amount to be recovered through 10 CFR parts 170 and 171 fees” assessed to applicants and licensees was $803.2 million in FY 2024 and $804.1 million in FY 2025, resulting in a difference of $900,000 in FY 2025 compared to FY 2024. The table below shows this calculation.

Table XXI—Fee Totals
[Dollars in millions]
| FY 2024 final rule | FY 2025 final rule
Adjusted amount to be recovered through 10 CFR parts 170 and 171 fees | $808.3 | $808.8
Less government agency fees (see table XX) | −5.1 | −4.7
Total | 803.2 | 804.1

As indicated above, both the amount of fees assessed to federal government agencies in FY 2025 ($4.731 million) as well as the fees assessed to non-government licensees and applicants in FY 2025 ($804.1 million) are considered transfer payments under OMB Circular A-4 and, therefore, not part of the costs of this rulemaking.

Therefore, the costs of this final rule constitute the resources for licensees to read the final rule and resultant changes to their internal processes for payment. The NRC expects that this rule will affect 3,072 licensees that will each spend a maximum of 1 hour reading the rule and 1 hour updating their accounting software. For the purpose of this analysis, the NRC developed a labor rate of $148, which includes only labor and material costs that are directly related to the implementation of the final rule.¹² The final rule results in a net cost to licensees of approximately $453,000.

¹² The NRC used the BLS data tables to select appropriate hourly labor rates for the roles performing work necessary following issuance of the final rule, calculating a blended mean wage based on the estimated proportion of work performed by each role from BLS, “May 2024 National Industry-Specific Occupational Employment and Wage Estimates,” (BLS, 2025). This labor rate includes wages paid for the individuals performing the work plus the associated fringe benefit component of labor cost.

Additionally, this rule includes revisions to 10 CFR part 170 to implement section 201 of the ADVANCE Act in preparation for the October 1, 2025 (FY 2026), statutory effective date for the Reduced Hourly Rate. The NRC plans to quantify benefits attributable to the Reduced Hourly Rate starting in FY 2026, after the Reduced Hourly Rate becomes effective. There are no quantifiable benefits to this final rule.

The NRC does not expect that the final rule will result in any behavioral changes related to market entry or exit among licensees on which the NRC assesses 10 CFR parts 170 and 171 fees. There is only a small increase in the adjusted amount to be recovered through 10 CFR parts 170 and 171 fees, and the way in which the NRC assesses these fees is well established. It is possible that the implementation of the Reduced Hourly Rate may induce current licensees to submit further licensing actions related to advanced nuclear activities, or may increase the rate of market entry of new licensees as advanced reactor applicants.

VII. Backfitting and Issue Finality

The NRC has determined that the backfit and issue finality provisions, §§ 50.109, “Backfitting”; 52.39, “Finality of early site permit determinations”; 52.63, “Finality of standard design certifications”; 52.83, “Finality of referenced NRC approvals; partial initial decision on site suitability”; 52.98, “Finality of combined licenses; information requests”; 52.145, “Finality of standard design approvals; information requests”; 52.171, “Finality of manufacturing licenses; information requests”; and 70.76, “Backfitting,” do not apply to this final rule and that a backfit analysis is not required because these amendments do not require the modification of, or addition to, (1) systems, structures, components, or the design of a facility; (2) the design approval or manufacturing license for a facility; or (3) the procedures or organization required to design, construct, or operate a facility.

VIII. Plain Writing

The Plain Writing Act of 2010 (Pub. L. 111-274) requires Federal agencies to write documents in a clear, concise, and well-organized manner. The NRC has written this document to be consistent with the Plain Writing Act, as well as the Presidential Memorandum, “Plain Language in Government Writing,” published June 10, 1998 (63 FR 31885).

IX. National Environmental Policy Act

The NRC has determined that this final rule is the type of action described in § 51.22(c)(1). Therefore, neither an environmental impact statement nor environmental assessment has been prepared for this final rule.

X. Paperwork Reduction Act

This final rule does not contain any new or amended collections of information subject to the Paperwork Reduction Act of 1995 (44 U.S.C. 3501, et seq.). Existing collections of information were approved by OMB, approval number 3150-0190.

Public Protection Notification

The NRC may not conduct or sponsor, and a person is not required to respond to, a collection of information unless the document requesting or requiring the collection displays a currently valid OMB control number.

XI. Regulatory Planning and Review

Executive Order (E.O.) 12866

The Office of Information and Regulatory Affairs (OIRA) has determined that this final rule is a significant regulatory action under E.O. 12866. Accordingly, NRC submitted this final rule to OIRA for review. NRC is required to conduct an economic analysis in accordance with section 6(a)(3)(B) of E.O. 12866. More can be found in Section VI. Regulatory Analysis . . . Given that there is no change from previous fiscal years under this final rule in how the NRC assesses its 10 CFR parts 170 and 171 fees, the NRC considers the costs to licensees associated with this rule to be minor.

Review Under E.O.s 14154, 14192, 14215, and 14300

NRC has examined this final rulemaking and has determined that it is consistent with the policies and directives outlined in E.O. 14154 “Unleashing American Energy,” E.O. 14192, “Unleashing Prosperity Through Deregulation,” E.O. 14215 “Ensuring Accountability for All Agencies,” and E.O. 14300, “Ordering the Reform of the Nuclear Regulatory Commission.” This final rule is considered an E.O. 14192 regulatory action. Details on the estimated costs of this final rule can be found in Section VI. Regulatory Analysis, which shows that the costs associated with this rule are minor and are thus consistent with the directive to promote prudent financial management and not to create unnecessary regulatory burdens.

XII. Congressional Review Act

This final rule is a rule as defined in the Congressional Review Act of 1996 (5 U.S.C. 801-808). The Office of Management and Budget has found that it meets the criteria at 5 U.S.C. 804(2) and will submit the required report to Congress.

XIII. Voluntary Consensus Standards

The National Technology Transfer and Advancement Act of 1995, Pubic Law 104-113, requires that Federal agencies use technical standards that are developed or adopted by voluntary consensus standards bodies unless the use of such a standard is inconsistent with applicable law or otherwise impractical. In this final rule, the NRC is amending the licensing, inspection, and annual fees charged to its licensees and applicants, as necessary, to recover, to the maximum extent practicable, approximately 100 percent of its annual budget for FY 2025 less the budget authority for excluded activities, as required by NEIMA. This action does not constitute the establishment of a standard that contains generally applicable requirements.

XIV. Availability of Guidance

The Small Business Regulatory Enforcement Fairness Act requires all Federal agencies to prepare a written compliance guide for each rule for which the agency is required by 5 U.S.C. 604 to prepare a regulatory flexibility analysis. The NRC, in compliance with the law, prepared the “Small Entity Compliance Guide” for the FY 2024 fee rule. The compliance guide was developed when the NRC completed the small entity biennial review for FY 2024. The NRC plans to continue to use this compliance guide for FY 2025 and has relabeled the compliance guide to reflect the current FY. This compliance guide is available as indicated in the “Availability of Documents” section of this document.

XV. Availability of Documents

The documents identified in the following table are available to interested persons through one or more of the following methods, as indicated.

Documents | ADAMS Accession No./FR citation/ web link
NUREG-1100, Volume 39, “Congressional Budget Justification: Fiscal Year 2025” (March 2024) | ML23069A000.
FY 2025 Final Rule Work Papers | ML25129A153.
OMB Circular A-25, “User Charges” | https://www.whitehouse.gov/wp-content/uploads/2017/11/Circular-025.pdf.
Final rule, “Revision of Fee Schedules; 100 percent Fee Recovery for FY 1999,” dated June 10, 1999 | 64 FR 31448.
Final rule, “Revision of Fee Schedules; Fee Recovery for FY 2002,” dated June 24, 2002 | 67 FR 42612.
SECY-05-0164, “Annual Fee Calculation Method,” dated September 15, 2005 | ML052580332.
Final rule, “Revision of Fee Schedules; Fee Recovery for FY 2006,” dated May 30, 2006 | 71 FR 30722.
Final rule, “Revision of Fee Schedules; Fee Recovery for Fiscal Year 2015,” dated June 30, 2015 | 80 FR 37432.
Final rule, “Variable Annual Fee Structure for Small Modular Reactors,” dated May 24, 2016 | 81 FR 32617.
Final rule, “Revision of Fee Schedules; Fee Recovery for FY 2023,” dated June 15, 2023 | 88 FR 39120.
Proposed rule, “Revision of Fee Schedules; Fee Recovery for Fiscal Year 2025,” dated February 19, 2025 | 90 FR 9848.
FY 2025 Regulatory Flexibility Analysis | ML25128A308.
FY 2025 U.S. Nuclear Regulatory Commission Small Entity Compliance Guide | ML24341A010.
“Plain Language in Government Writing,” dated June 10, 1998 | 63 FR 31885.

List of Subjects

10 CFR Part 170

Byproduct material, Import and export licenses, Intergovernmental relations, Non-payment penalties, Nuclear energy, Nuclear materials, Nuclear power plants and reactors, Source material, Special nuclear material.

10 CFR Part 171

Annual charges, Approvals, Byproduct material, Holders of certificates, Intergovernmental relations, Nonpayment penalties, Nuclear materials, Nuclear power plants and reactors, Registrations, Source material, Special nuclear material.

For the reasons set out in the preamble and under the authority of the Atomic Energy Act of 1954, as amended; the Energy Reorganization Act of 1974, as amended; 42 U.S.C. 2215; 31 U.S.C. 9701; and 5 U.S.C. 552 and 553, the NRC is amending 10 CFR parts 170 and 171 as follows:

PART 170-FEES FOR FACILITIES, MATERIALS, IMPORT AND EXPORT LICENSES, AND OTHER REGULATORY SERVICES UNDER THE ATOMIC ENERGY ACT OF 1954, AS AMENDED

1. The authority citation for part 170 continues to read as follows:

Authority: Atomic Energy Act of 1954, secs. 11, 161(w) (42 U.S.C. 2014, 2201(w)); Energy Reorganization Act of 1974, sec. 201 (42 U.S.C. 5841); 42 U.S.C. 2215; 31 U.S.C. 901, 902, 9701; 44 U.S.C. 3504 note.

2. In § 170.3, add in alphabetical order definitions for “Advanced nuclear reactor applicant,” “Advanced nuclear reactor pre-applicant,” and “Qualifying application”.

§ 170.3 Definitions.

* * * * *

Advanced nuclear reactor applicant means an entity that has submitted to the Commission a “qualifying application,” as defined in this part.

Advanced nuclear reactor pre-applicant means an entity that has submitted to the Commission a licensing project plan for the purposes of submitting a future “qualifying application,” as defined in this part.

* * * * *

Qualifying application means an application that:

(1) is for an advanced nuclear reactor as defined in section 3 of the Nuclear Energy Innovation and Modernization Act (42 U.S.C. 2215 note); and

(2) is for an operating license, combined license, manufacturing license, construction permit, early site permit, limited work authorization, design certification, or standard design approval.

* * * * *

3. Revise § 170.20 to read as follows:

§ 170.20 Average cost per professional staff-hour.

(a) Except as provided in paragraphs (b) and (c) of this section, fees for permits, licenses, amendments, renewals, special projects, 10 CFR part 55 re-qualification and replacement examinations and tests, other required reviews, approvals, and inspections under §§ 170.21 and 170.31 will be calculated using the professional staff-hour rate of $318 per hour.

(b) For advanced nuclear reactor applicants:

(1) Prior to October 1, 2025, fees under § 170.21 will be calculated using the professional staff-hour rate of $318 per hour.

(2) Effective on October 1, 2025, fees under § 170.21 relating to the review of the submitted application for the advanced nuclear reactor applicant will be calculated using the reduced hourly rate of $148 per hour.

(c) For advanced nuclear reactor pre-applicants:

(1) Prior to October 1, 2025, fees under § 170.21 will be calculated using the professional staff-hour rate of $318 per hour.

(2) Effective on October 1, 2025, fees under § 170.21 relating to the review of submitted materials as described in the licensing project plan will be calculated using the reduced hourly rate of $148 per hour.

(3) Paragraph (c) of this section shall cease to be effective on September 30, 2030.

4. In § 170.21, in table 1, revise footnote 2 to read as follows:

§ 170.21 Schedule of fees for production and utilization facilities, review of standard referenced design approvals, special projects, inspections and import and export licenses.

* * * * *

Table 1 to § 170.21—Schedule of Facility Fees
[See footnotes at end of table]
Facility categories and type of fees | Fees ¹ ²
* * * * * * *
¹ Fees will be charged for approvals issued under a specific exemption provision of the Commission's regulations under title 10 of the Code of Federal Regulations (e.g., 10 CFR 50.12, 10 CFR 73.5) and any other sections in effect now or in the future, regardless of whether the approval is in the form of a license amendment, letter of approval, safety evaluation report, or other form.
² Full cost fees will be determined based on the professional staff time and appropriate contractual support services expended. For applications currently on file and for which fees are determined based on the full cost expended for the review, the professional staff hours expended for the review of the application up to August 25, 2025, will be determined at the professional hourly rate in effect when the service was provided. Effective October 1, 2025, the “full cost fees” described in the table for advanced nuclear reactor applicants and advanced nuclear reactor pre-applicants will be assessed consistent with § 170.20(b) and (c).

* * * * *

5. In § 170.31, revise table 1 to read as follows:

§ 170.31 Schedule of fees for materials licenses and other regulatory services, including inspections, and import and export licenses.

* * * * *

Table 1 to § 170.31—Schedule of Materials Fees
[See footnotes at end of table]
Category of materials licenses and type of fees 1 | Fees 2 3
1. Special nuclear material:11
A. (1) Licenses for possession and use of U-235 or plutonium for fuel fabrication activities |
(a) Strategic Special Nuclear Material (High Enriched Uranium) 6 [Program Code(s): 21213] | Full Cost.
(b) Low Enriched Uranium in Dispersible Form Used for Fabrication of Power Reactor Fuel 6 [Program Code(s): 21210] | Full Cost.
(2) All other special nuclear materials licenses not included in Category 1.A. (1) which are licensed for fuel cycle activities. 6 |
(a) Facilities with limited operations 6 [Program Code(s): 21240, 21310, 21320] | Full Cost.
(b) Gas centrifuge enrichment demonstration facilities. 6 [Program Code(s): 21205] | Full Cost.
(c) Others, including hot cell facilities. 6 [Program Code(s): 21130, 21131, 21133] | Full Cost.
B. Licenses for receipt and storage of spent fuel and reactor-related Greater than Class C (GTCC) waste at an independent spent fuel storage installation (ISFSI). 6 [Program Code(s): 23200] | Full Cost.
C. Licenses for possession and use of special nuclear material of less than a critical mass as defined in § 70.4 of this chapter in sealed sources contained in devices used in industrial measuring systems, including x-ray fluorescence analyzers. 4 Application [Program Code(s): 22140] | $1,500.
D. All other special nuclear material licenses, except licenses authorizing special nuclear material in sealed or unsealed form in combination that would constitute a critical mass, as defined in § 70.4 of this chapter, for which the licensee shall pay the same fees as those under Category 1.A. 4 Application [Program Code(s): 22110, 22111, 22120, 22131, 22136, 22150, 22151, 22161, 22170, 23100, 23300, 23310] | $3,000.
E. Licenses or certificates for construction and operation of a uranium enrichment facility 6 [Program Code(s): 21200] | Full Cost.
F. Licenses for possession and use of special nuclear material greater than critical mass as defined in § 70.4 of this chapter, for development and testing of commercial products, and other non-fuel-cycle activities. 4 6 [Program Code(s): 22155] | Full Cost.
2. Source material: 11
A. (1) Licenses for possession and use of source material for refining uranium mill concentrates to uranium hexafluoride or for deconverting uranium hexafluoride in the production of uranium oxides for disposal. 6 [Program Code(s): 11400] | Full Cost.
(2) Licenses for possession and use of source material in recovery operations such as milling, in situ recovery, heap-leaching, ore buying stations, ion-exchange facilities, and in processing of ores containing source material for extraction of metals other than uranium or thorium, including licenses authorizing the possession of byproduct waste material (tailings) from source material recovery operations, as well as licenses authorizing the possession and maintenance of a facility in a standby mode. 6 |
(a) Conventional and Heap Leach facilities 6 [Program Code(s): 11100] | Full Cost.
(b) Basic In Situ Recovery facilities 6 [Program Code(s): 11500] | Full Cost.
(c) Expanded In Situ Recovery facilities 6 [Program Code(s): 11510] | Full Cost.
(d) In Situ Recovery Resin facilities 6 [Program Code(s): 11550] | Full Cost.
(e) Resin Toll Milling facilities 6 [Program Code(s): 11555] | Full Cost.
(f) Other facilities 6 [Program Code(s): 11700] | Full Cost.
(3) Licenses that authorize the receipt of byproduct material, as defined in section 11e.(2) of the Atomic Energy Act, from other persons for possession and disposal, except those licenses subject to the fees in Category 2.A.(2) or Category 2.A.(4) 6 [Program Code(s): 11600, 12000] | Full Cost.
(4) Licenses that authorize the receipt of byproduct material, as defined in section 11e.(2) of the Atomic Energy Act, from other persons for possession and disposal incidental to the disposal of the uranium waste tailings generated by the licensee's milling operations, except those licenses subject to the fees in Category 2.A.(2) 6 [Program Code(s): 12010] | Full Cost.
B. Licenses which authorize the possession, use, and/or installation of source material for shielding. 7 8 Application [Program Code(s): 11210] | $1,400.
C. Licenses to distribute items containing source material to persons exempt from the licensing requirements of part 40 of this chapter. Application [Program Code(s): 11240] | $6,800.
D. Licenses to distribute source material to persons generally licensed under part 40 of this chapter. Application [Program Code(s): 11230, 11231] | $3,100.
E. Licenses for possession and use of source material for processing or manufacturing of products or materials containing source material for commercial distribution. Application [Program Code(s): 11710] | $3,000.
F. All other source material licenses. Application [Program Code(s): 11200, 11220, 11221, 11300, 11800, 11810, 11820] | $3,000.
3. Byproduct material: 11
A. Licenses of broad scope for the possession and use of byproduct material issued under parts 30 and 33 of this chapter for processing or manufacturing of items containing byproduct material for commercial distribution. Number of locations of use: 1-5. Application [Program Code(s): 03211, 03212, 03213] | $14,900.
(1). Licenses of broad scope for the possession and use of byproduct material issued under parts 30 and 33 of this chapter for processing or manufacturing of items containing byproduct material for commercial distribution. Number of locations of use: 6-20. Application [Program Code(s): 04010, 04012, 04014] | $19,800.
(2). Licenses of broad scope for the possession and use of byproduct material issued under parts 30 and 33 of this chapter for processing or manufacturing of items containing byproduct material for commercial distribution. Number of locations of use: more than 20. Application [Program Code(s): 04011, 04013, 04015] | $24,700.
B. Other licenses for possession and use of byproduct material issued under part 30 of this chapter for processing or manufacturing of items containing byproduct material for commercial distribution. Number of locations of use: 1-5. Application [Program Code(s): 03214, 03215, 22135, 22162] | $4,100.
(1). Other licenses for possession and use of byproduct material issued under part 30 of this chapter for processing or manufacturing of items containing byproduct material for commercial distribution. Number of locations of use: 6-20. Application [Program Code(s): 04110, 04112, 04114, 04116] | $5,500.
(2). Other licenses for possession and use of byproduct material issued under part 30 of this chapter for processing or manufacturing of items containing byproduct material for commercial distribution. Number of locations of use: more than 20. Application [Program Code(s): 04111, 04113, 04115, 04117] | $6,800.
C. Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: 1-5. Application [Program Code(s): 02500, 02511, 02513] | $5,900.
(1). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: 6-20. Application [Program Code(s): 04210, 04212, 04214] | $7,900.
(2). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: more than 20. Application [Program Code(s): 04211, 04213, 04215] | $9,900.
D. [Reserved] | N/A.
E. Licenses for possession and use of byproduct material in sealed sources for irradiation of materials in which the source is not removed from its shield (self-shielded units). Application [Program Code(s): 03510, 03520] | $3,700.
F. Licenses for possession and use of less than or equal to 10,000 curies of byproduct material in sealed sources for irradiation of materials in which the source is exposed for irradiation purposes. This category also includes underwater irradiators for irradiation of materials where the source is not exposed for irradiation purposes. Application [Program Code(s): 03511] | $7,400.
G. Licenses for possession and use of greater than 10,000 curies of byproduct material in sealed sources for irradiation of materials in which the source is exposed for irradiation purposes. This category also includes underwater irradiators for irradiation of materials where the source is not exposed for irradiation purposes. Application [Program Code(s): 03521] | $70,900.
H. Licenses issued under subpart A of part 32 of this chapter to distribute items containing byproduct material that require device review to persons exempt from the licensing requirements of part 30 of this chapter. The category does not include specific licenses authorizing redistribution of items that have been authorized for distribution to persons exempt from the licensing requirements of part 30 of this chapter. Application [Program Code(s): 03254, 03255, 03257] | $7,600.
I. Licenses issued under subpart A of part 32 of this chapter to distribute items containing byproduct material or quantities of byproduct material that do not require device evaluation to persons exempt from the licensing requirements of part 30 of this chapter. This category does not include specific licenses authorizing redistribution of items that have been authorized for distribution to persons exempt from the licensing requirements of part 30 of this chapter. Application [Program Code(s): 03250, 03251, 03253, 03256] | $11,700.
J. Licenses issued under subpart B of part 32 of this chapter to distribute items containing byproduct material that require sealed source and/or device review to persons generally licensed under part 31 of this chapter. This category does not include specific licenses authorizing redistribution of items that have been authorized for distribution to persons generally licensed under part 31 of this chapter. Application [Program Code(s): 03240, 03241, 03243] | $2,300.
K. Licenses issued under subpart B of part 32 of this chapter to distribute items containing byproduct material or quantities of byproduct material that do not require sealed source and/or device review to persons generally licensed under part 31 of this chapter. This category does not include specific licenses authorizing redistribution of items that have been authorized for distribution to persons generally licensed under part 31 of this chapter. Application [Program Code(s): 03242, 03244] | $1,300.
L. Licenses of broad scope for possession and use of byproduct material issued under parts 30 and 33 of this chapter for research and development that do not authorize commercial distribution. Number of locations of use: 1-5. Application [Program Code(s): 01100, 01110, 01120, 03610, 03611, 03612, 03613] | $6,300.
(1) Licenses of broad scope for possession and use of byproduct material issued under parts 30 and 33 of this chapter for research and development that do not authorize commercial distribution. Number of locations of use: 6-20. Application [Program Code(s): 04610, 04612, 04614, 04616, 04618, 04620, 04622] | $8,300.
(2) Licenses of broad scope for possession and use of byproduct material issued under parts 30 and 33 of this chapter for research and development that do not authorize commercial distribution. Number of locations of use: more than 20. Application [Program Code(s): 04611, 04613, 04615, 04617, 04619, 04621, 04623] | $10,400.
M. Other licenses for possession and use of byproduct material issued under part 30 of this chapter for research and development that do not authorize commercial distribution. Application [Program Code(s): 03620] | $9,500.
N. Licenses that authorize services for other licensees, except:
(1) Licenses that authorize only calibration and/or leak testing services are subject to the fees specified in fee Category 3.P.; and
(2) Licenses that authorize waste disposal services are subject to the fees specified in fee Categories 4.A., 4.B., and 4.C. 13 Application [Program Code(s): 03219, 03225, 03226] | $10,200.
O. Licenses for possession and use of byproduct material issued under part 34 of this chapter for industrial radiography operations. Number of locations of use: 1-5. Application [Program Code(s): 03310, 03320] | $11,600.
(1). Licenses for possession and use of byproduct material issued under part 34 of this chapter for industrial radiography operations. Number of locations of use: 6-20. Application [Program Code(s): 04310, 04312] | $15,400.
(2). Licenses for possession and use of byproduct material issued under part 34 of this chapter for industrial radiography operations. Number of locations of use: more than 20. Application [Program Code(s): 04311, 04313] | $19,300.
P. All other specific byproduct material licenses, except those in Categories 4.A. through 9.D. 9 Number of locations of use: 1-5. Application [Program Code(s): 02400, 02410, 03120, 03121, 03122, 03123, 03124, 03130, 03140, 03220, 03221, 03222, 03800, 03810, 22130] | $7,700.
(1). All other specific byproduct material licenses, except those in Categories 4.A. through 9.D. 9 Number of locations of use: 6-20. Application [Program Code(s): 04410, 04412, 04414, 04416, 04418, 04420, 04422, 04424, 04426, 04428, 04430, 04432, 04434, 04436, 04438] | $10,500.
(2). All other specific byproduct material licenses, except those in Categories 4.A. through 9.D. 9 Number of locations of use: more than 20. Application [Program Code(s): 04411, 04413, 04415, 04417, 04419, 04421, 04423, 04425, 04427, 04429, 04431, 04433, 04435, 04437, 04439] | $13,100.
Q. Registration of a device(s) generally licensed under part 31 of this chapter. Registration | $1,000.
R. Possession of items or products containing radium-226 identified in § 31.12 of this chapter which exceed the number of items or limits specified in that section. 5
1. Possession of quantities exceeding the number of items or limits in § 31.12(a)(4) or (5) of this chapter but less than or equal to 10 times the number of items or limits specified. Application [Program Code(s): 02700] | $2,900.
2. Possession of quantities exceeding 10 times the number of items or limits specified in § 31.12(a)(4) or (5) of this chapter. Application [Program Code(s): 02710] | $2,900.
S. Licenses for production of accelerator-produced radionuclides. Application [Program Code(s): 03210] | $16,200.
4. Waste disposal and processing: 11
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material. Application [Program Code(s): 03231, 03233, 03236, 06100, 06101] | Full Cost.
B. Licenses specifically authorizing the receipt of waste byproduct material, source material, or special nuclear material from other persons for the purpose of packaging or repackaging the material. The licensee will dispose of the material by transfer to another person authorized to receive or dispose of the material. Application [Program Code(s): 03234] | $7,900.
C. Licenses specifically authorizing the receipt of prepackaged waste byproduct material, source material, or special nuclear material from other persons. The licensee will dispose of the material by transfer to another person authorized to receive or dispose of the material. Application [Program Code(s): 03232] | $5,700.
5. Well logging: 11
A. Licenses for possession and use of byproduct material, source material, and/or special nuclear material for well logging, well surveys, and tracer studies other than field flooding tracer studies. Application [Program Code(s): 03110, 03111, 03112] | $5,200.
B. Licenses for possession and use of byproduct material for field flooding tracer studies. Licensing [Program Code(s): 03113] | Full Cost.
6. Nuclear laundries: 11
A. Licenses for commercial collection and laundry of items contaminated with byproduct material, source material, or special nuclear material. Application [Program Code(s): 03218] | $25,300.
7. Medical licenses: 11
A. Licenses issued under parts 30, 35, 40, and 70 of this chapter for human use of byproduct material, source material, or special nuclear material in sealed sources contained in gamma stereotactic radiosurgery units, teletherapy devices, or similar beam therapy devices. This category also includes the possession and use of source material for shielding when authorized on the same license. Number of locations of use: 1-5. Application [Program Code(s): 02300, 02310] | $12,700.
(1). Licenses issued under parts 30, 35, 40, and 70 of this chapter for human use of byproduct material, source material, or special nuclear material in sealed sources contained in gamma stereotactic radiosurgery units, teletherapy devices, or similar beam therapy devices. This category also includes the possession and use of source material for shielding when authorized on the same license. Number of locations of use: 6-20. Application [Program Code(s): 04510, 04512] | $16,900.
(2). Licenses issued under parts 30, 35, 40, and 70 of this chapter for human use of byproduct material, source material, or special nuclear material in sealed sources contained in gamma stereotactic radiosurgery units, teletherapy devices, or similar beam therapy devices. This category also includes the possession and use of source material for shielding when authorized on the same license. Number of locations of use: more than 20. Application [Program Code(s): 04511, 04513] | $21,100.
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. Number of locations of use: 1-5. Application [Program Code(s): 02110] | $9,900.
(1). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. Number of locations of use: 6-20. Application [Program Code(s): 04710] | $13,200.
(2). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. Number of locations of use: more than 20. Application [Program Code(s): 04711] | $16,500.
C. Other licenses issued under parts 30, 35, 40, and 70 of this chapter for human use of byproduct material, source material, and/or special nuclear material, except licenses for byproduct material, source material, or special nuclear material in sealed sources contained in teletherapy devices. This category also includes the possession and use of source material for shielding when authorized on the same license. 10 Number of locations of use: 1-5. Application [Program Code(s): 02120, 02121, 02200, 02201, 02210, 02220, 02230, 02231, 02240, 22160] | $9,800.
(1). Other licenses issued under parts 30, 35, 40, and 70 of this chapter for human use of byproduct material, source material, and/or special nuclear material, except licenses for byproduct material, source material, or special nuclear material in sealed sources contained in teletherapy devices. This category also includes the possession and use of source material for shielding when authorized on the same license. 10 Number of locations of use: 6-20. Application [Program Code(s): 04810, 04812, 04814, 04816, 04818, 04820, 04822, 04824, 04826, 04828] | $14,500.
(2). Other licenses issued under parts 30, 35, 40, and 70 of this chapter for human use of byproduct material, source material, and/or special nuclear material, except licenses for byproduct material, source material, or special nuclear material in sealed sources contained in teletherapy devices. This category also includes the possession and use of source material for shielding when authorized on the same license. 10 Number of locations of use: more than 20. Application [Program Code(s): 04811,04813, 04815, 04817, 04819, 04821,04823, 04825, 04827, 04829] | $18,100.
8. Civil defense: 11
A. Licenses for possession and use of byproduct material, source material, or special nuclear material for civil defense activities. Application [Program Code(s): 03710] | $2,900.
9. Device, product, or sealed source safety evaluation:
A. Safety evaluation of devices or products containing byproduct material, source material, or special nuclear material, except reactor fuel devices, for commercial distribution. Application—each device | $19,800.
B. Safety evaluation of devices or products containing byproduct material, source material, or special nuclear material manufactured in accordance with the unique specifications of, and for use by, a single applicant, except reactor fuel devices. Application—each device | $10,300.
C. Safety evaluation of sealed sources containing byproduct material, source material, or special nuclear material, except reactor fuel, for commercial distribution. Application—each source | $6,000.
D. Safety evaluation of sealed sources containing byproduct material, source material, or special nuclear material, manufactured in accordance with the unique specifications of, and for use by, a single applicant, except reactor fuel. Application—each source | $1,200.
10. Transportation of radioactive material:
A. Evaluation of casks, packages, and shipping containers
1. Spent Fuel, High-Level Waste, and plutonium air packages | Full Cost.
2. Other Casks | Full Cost.
B. Quality assurance program approvals issued under part 71 of this chapter
1. Users and Fabricators
Application | $4,400.
Inspections | Full Cost.
2. Users
Application | $4,400.
Inspections | Full Cost.
C. Evaluation of security plans, route approvals, route surveys, and transportation security devices (including immobilization devices) | Full Cost.
11. Review of standardized spent fuel facilities | Full Cost.
12. Special projects:
Including approvals, pre-application/licensing activities, and inspections. Application [Program Code: 25110] | Full Cost.
13. A. Spent fuel storage cask Certificate of Compliance\ | Full Cost.
B. Inspections related to storage of spent fuel under § 72.210 of this chapter | Full Cost.
14. Decommissioning/Reclamation: 11
A. Byproduct, source, or special nuclear material licenses and other approvals authorizing decommissioning, decontamination, reclamation, or site restoration activities under parts 30, 40, 70, 72, and 76 of this chapter, including master materials licenses (MMLs). The transition to this fee category occurs when a licensee has permanently ceased principal activities. [Program Code(s): 03900, 11900, 21135, 21215, 21325, 22200] | Full Cost.
B. Site-specific decommissioning activities associated with unlicensed sites, including MMLs, regardless of whether or not the sites have been previously licensed | Full Cost.
15. Import and Export licenses: 12
Licenses issued under part 110 of this chapter for the import and export only of special nuclear material, source material, tritium and other byproduct material, and the export only of heavy water, or nuclear grade graphite (fee categories 15.A. through 15.E.).
A. Application for export or import of nuclear materials, including radioactive waste requiring Commission and Executive Branch review, for example, those actions under § 110.40(b) of this chapter. Application—new license, or amendment; or license exemption request | N/A.
B. Application for export or import of nuclear material, including radioactive waste, requiring Executive Branch review, but not Commission review. This category includes applications for the export and import of radioactive waste and requires the NRC to consult with domestic host state authorities (i.e., Low-Level Radioactive Waste Compact Commission, the U.S. Environmental Protection Agency, etc.). Application—new license, or amendment; or license exemption request | N/A.
C. Application for export of nuclear material, for example, routine reloads of low enriched uranium reactor fuel and/or natural uranium source material requiring the assistance of the Executive Branch to obtain foreign government assurances. Application—new license, or amendment; or license exemption request | N/A.
D. Application for export or import of nuclear material not requiring Commission or Executive Branch review, or obtaining foreign government assurances. Application—new license, or amendment; or license exemption request. | N/A.
E. Minor amendment of any active export or import license, for example, to extend the expiration date, change domestic information, or make other revisions which do not involve any substantive changes to license terms and conditions or to the type/quantity/chemical composition of the material authorized for export and, therefore, do not require in-depth analysis, review, or consultations with other Executive Branch, U.S. host state, or foreign government authorities. Minor amendment | N/A.
Licenses issued under part 110 of this chapter for the import and export only of Category 1 and Category 2 quantities of radioactive material listed in appendix P to part 110 of this chapter (fee categories 15.F. through 15.R.)
Category 1 (Appendix P, 10 CFR Part 110) Exports:
F. Application for export of appendix P Category 1 materials requiring Commission review (e.g., exceptional circumstance review under § 110.42(e)(4) of this chapter) and to obtain one government-to-government consent for this process. For additional consent see fee category 15.I. Application—new license, or amendment; or license exemption request | N/A.
G. Application for export of appendix P Category 1 materials requiring Executive Branch review and to obtain one government-to-government consent for this process. For additional consents see fee category 15.I. Application—new license, or amendment; or license exemption request | N/A.
H. Application for export of appendix P Category 1 materials and to obtain one government-to-government consent for this process. For additional consents see fee category 15.I. Application—new license, or amendment; or license exemption request | N/A.
I. Requests for each additional government-to-government consent in support of an export license application or active export license. Application—new license, or amendment; or license exemption request | N/A.
Category 2 (Appendix P, 10 CFR Part 110) Exports:
J. Application for export of appendix P Category 2 materials requiring Commission review (e.g., exceptional circumstance review under § 110.42(e)(4) of this chapter). Application—new license, or amendment; or license exemption request | N/A.
K. Applications for export of appendix P Category 2 materials requiring Executive Branch review. Application—new license, or amendment; or license exemption request | N/A.
L. Application for the export of Category 2 materials. Application—new license, or amendment; or license exemption request | N/A.
M. [Reserved] | N/A.
N. [Reserved] | N/A.
O. [Reserved] | N/A.
P. [Reserved] | N/A.
Q. [Reserved] | N/A.
Minor Amendments (Category 1 and 2, Appendix P, 10 CFR Part 110, Export):
R. Minor amendment of any active export license, for example, to extend the expiration date, change domestic information, or make other revisions which do not involve any substantive changes to license terms and conditions or to the type/quantity/chemical composition of the material authorized for export and, therefore, do not require in-depth analysis, review, or consultations with other Executive Branch, U.S. host state, or foreign authorities. Minor amendment | N/A.
16. Reciprocity:
Agreement State licensees who conduct activities under the reciprocity provisions of § 150.20 of this chapter. Application | $3,700.
17. Master materials licenses of broad scope issued to Government agencies. Application [Program Code(s): 03614] | Full Cost.
18. Department of Energy:
A. Certificates of Compliance. Evaluation of casks, packages, and shipping containers (including spent fuel, high-level waste, and other casks, and plutonium air packages). | Full Cost.
B. Uranium Mill Tailings Radiation Control Act (UMTRCA) activities | Full Cost.
¹ Types of fees—Separate charges, as shown in the schedule, will be assessed for pre-application consultations and reviews; applications for new licenses, approvals, or license terminations; possession-only licenses; issuances of new licenses and approvals; certain amendments and renewals to existing licenses and approvals; safety evaluations of sealed sources and devices; generally licensed device registrations; and certain inspections. The following guidelines apply to these charges:
(1) Application and registration fees. Applications for new materials licenses and export and import licenses; applications to reinstate expired, terminated, or inactive licenses, except those subject to fees assessed at full costs; applications filed by Agreement State licensees to register under the general license provisions of 10 CFR 150.20; and applications for amendments to materials licenses that would place the license in a higher fee category or add a new fee category must be accompanied by the prescribed application fee for each category.
(i) Applications for licenses covering more than one fee category of special nuclear material or source material must be accompanied by the prescribed application fee for the highest fee category.
(ii) Applications for new licenses that cover both byproduct material and special nuclear material in sealed sources for use in gauging devices will pay the appropriate application fee for fee category 1.C. only.
(2) Licensing fees. Fees for reviews of applications for new licenses, renewals, and amendments to existing licenses, pre-application consultations and other documents submitted to the NRC for review, and project manager time for fee categories subject to full cost fees are due upon notification by the Commission in accordance with § 170.12(b).
(3) Amendment fees. Applications for amendments to export and import licenses must be accompanied by the prescribed amendment fee for each license affected. An application for an amendment to an export or import license or approval classified in more than one fee category must be accompanied by the prescribed amendment fee for the category affected by the amendment, unless the amendment is applicable to two or more fee categories, in which case the amendment fee for the highest fee category would apply.
(4) Inspection fees. Inspections resulting from investigations conducted by the Office of Investigations and nonroutine inspections that result from third-party allegations are not subject to fees. Inspection fees are due upon notification by the Commission in accordance with § 170.12(c).
(5) Generally licensed device registrations under 10 CFR 31.5. Submittals of registration information must be accompanied by the prescribed fee.
² Fees will be charged for approvals issued under a specific exemption provision of the Commission's regulations under title 10 of the Code of Federal Regulations (e.g., 10 CFR 30.11, 40.14, 70.14, 73.5, and any other sections in effect now or in the future), regardless of whether the approval is in the form of a license amendment, letter of approval, safety evaluation report, or other form. In addition to the fee shown, an applicant may be assessed an additional fee for sealed source and device evaluations as shown in fee categories 9.A. through 9.D.
³ Full cost fees will be determined based on the professional staff time multiplied by the appropriate professional hourly rate established in § 170.20 in effect when the service is provided, and the appropriate contractual support services expended.
⁴ Licensees paying fees under categories 1.A., 1.B., and 1.E. are not subject to fees under categories 1.C., 1.D. and 1.F. for sealed sources authorized in the same license, except for an application that deals only with the sealed sources authorized by the license.
⁵ Persons who possess radium sources that are used for operational purposes in another fee category are not also subject to the fees in this category. (This exception does not apply if the radium sources are possessed for storage only.)
⁶ Licensees subject to fees under fee categories 1.A., 1.B., 1.E., or 2.A. must pay the largest applicable fee and are not subject to additional fees listed in this table.
⁷ Licensees paying fees under 3.C., 3.C.1, or 3.C.2 are not subject to fees under 2.B. for possession and shielding authorized on the same license.
⁸ Licensees paying fees under 7.C. are not subject to fees under 2.B. for possession and shielding authorized on the same license.
⁹ Licensees paying fees under 3.N. are not subject to paying fees under 3.P., 3.P.1, or 3.P.2 for calibration or leak testing services authorized on the same license.
¹⁰ Licensees paying fees under 7.B., 7.B.1, or 7.B.2 are not subject to paying fees under 7.C., 7.C.1, or 7.C.2. for broad scope licenses issued under parts 30, 35, 40, and 70 of this chapter for human use of byproduct material, source material, and/or special nuclear material, except licenses for byproduct material, source material, or special nuclear material in sealed sources contained in teletherapy devices authorized on the same license.
¹¹ A materials license (or part of a materials license) that transitions to fee category 14.A is assessed full-cost fees under 10 CFR part 170, but is not assessed an annual fee under 10 CFR part 171. If only part of a materials license is transitioned to fee category 14.A, the licensee may be charged annual fees (and any applicable 10 CFR part 170 fees) for other activities authorized under the license that are not in decommissioning status.
¹² Because the resources for import and export licensing activities are identified as a fee-relief activity to be excluded from the fee-recoverable budget, import and export licensing actions will not incur fees.
¹³ Licensees paying fees under 4.A., 4.B. or 4.C. are not subject to paying fees under 3.N. licenses that authorize services for other licensees authorized on the same license.

PART 171—ANNUAL FEES FOR REACTOR LICENSES AND FUEL CYCLE LICENSES AND MATERIALS LICENSES, INCLUDING HOLDERS OF CERTIFICATES OF COMPLIANCE, REGISTRATIONS, AND QUALITY ASSURANCE PROGRAM APPROVALS AND GOVERNMENT AGENCIES LICENSED BY THE NRC

6. The authority citation for part 171 continues to read as follows:

Authority: Atomic Energy Act of 1954, secs. 11, 161(w), 223, 234 (42 U.S.C. 2014, 2201(w), 2273, 2282); Energy Reorganization Act of 1974, sec. 201 (42 U.S.C. 5841); 42 U.S.C. 2215; 44 U.S.C. 3504 note.

7. In § 171.15, revise paragraphs (b)(1), (b)(2) introductory text, (c)(1), (c)(2) introductory text, and (e) to read as follows:

§ 171.15 Annual fees: Non-power production or utilization licenses, reactor licenses, and independent spent fuel storage licenses.

* * * * *

(b) * * *

(1) The FY 2025 annual fee for each operating power reactor that must be collected by September 30, 2025, is $5,319,000.

(2) The FY 2025 annual fees are comprised of a base annual fee for power reactors licensed to operate, a base spent fuel storage/reactor decommissioning annual fee and associated additional charges. The activities comprising the spent fuel storage/reactor decommissioning base annual fee are shown in paragraphs (c)(2)(i) and (ii) of this section. The activities comprising the FY 2025 base annual fee for operating power reactors are as follows:

* * * * *

(c)(1) The FY 2025 annual fee for each power reactor holding a 10 CFR part 50 license or combined license issued under 10 CFR part 52 that is in a decommissioning or possession-only status and has spent fuel onsite, and for each independent spent fuel storage 10 CFR part 72 licensee who does not hold a 10 CFR part 50 license or a 10 CFR part 52 combined license, is $326,000.

(2) The FY 2025 annual fee is comprised of a base spent fuel storage/reactor decommissioning annual fee (which is also included in the operating power reactor annual fee shown in paragraph (b) of this section). The activities comprising the FY 2025 spent fuel storage/reactor decommissioning rebaselined annual fee are:

* * * * *

(e) The FY 2025 annual fee for licensees authorized to operate one or more non-power production or utilization facilities under a single 10 CFR part 50 license, unless the reactor is exempted from fees under § 171.11(b), is $96,800.

8. In § 171.16, revise paragraphs (b) introductory text, (c), and (d) to read as follows:

§ 171.16 Annual fees: Materials licensees, holders of certificates of compliance, holders of sealed source and device registrations, holders of quality assurance program approvals, and government agencies licensed by the NRC.

* * * * *

(b) The FY 2025 annual fee is comprised of a base annual fee and associated additional charges. The base FY 2025 annual fee is the sum of budgeted costs for the following activities:

* * * * *

(c) A licensee who is required to pay an annual fee under this section, in addition to 10 CFR part 72 licenses, may qualify as a small entity. If a licensee qualifies as a small entity and provides the Commission with the proper certification along with its annual fee payment, the licensee may pay reduced annual fees as shown in table 1 to this paragraph (c). Failure to file a small entity certification in a timely manner could result in the receipt of a delinquent invoice requesting the outstanding balance due and/or denial of any refund that might otherwise be due. The small entity fees are as follows:

Table 1 to Paragraph (c)
NRC small entity classification | Maximum annual fee per licensed category
Small Businesses Not Engaged in Manufacturing (Average gross receipts over the last 5 completed fiscal years):
$555,000 to $8 million | $5,800
Less than $555,000 | 1,100
Small Not-For-Profit Organizations (Annual Gross Receipts):
$555,000 to $8 million | 5,800
Less than $555,000 | 1,100
Manufacturing Entities that Have an Average of 500 Employees or Fewer:
35 to 500 employees | 5,800
Fewer than 35 employees | 1,100
Small Governmental Jurisdictions (Including publicly supported educational institutions) (Population):
20,000 to 49,999 | 5,800
Fewer than 20,000 | 1,100
Educational Institutions that are not State or Publicly Supported, and have 500 Employees or Fewer:
35 to 500 employees | 5,800
Fewer than 35 employees | 1,100

(d) The FY 2025 annual fees for materials licensees and holders of certificates, registrations, or approvals subject to fees under this section are shown in table 2 to this paragraph (d):

Table 2 to Paragraph (d)—Schedule of Materials Annual Fees and Fees for Government Agencies Licensed by NRC
[See footnotes at end of table]
Category of materials licenses | Annual fees 1 2 3
1. Special nuclear material:
A. (1) Licenses for possession and use of U-235 or plutonium for fuel fabrication activities.
(a) Strategic Special Nuclear Material (High Enriched Uranium) 15 [Program Code(s): 21213] | $6,101,000
(b) Low Enriched Uranium in Dispersible Form Used for Fabrication of Power Reactor Fuel 15 [Program Code(s): 21210] | 2,068,000
(2) All other special nuclear materials licenses not included in Category 1.A.(1) which are licensed for fuel cycle activities
(a) Facilities with limited operations 15 [Program Code(s): 21310, 21320] | 1,704,000
(b) Gas centrifuge enrichment demonstration facility 15 [Program Code(s): 21205] | N/A
(c) Others, including hot cell facility 15 [Program Code(s): 21130, 21131, 21133] | N/A
B. Licenses for receipt and storage of spent fuel and reactor-related Greater than Class C (GTCC) waste at an independent spent fuel storage installation (ISFSI) 11 15 [Program Code(s): 23200] | N/A
C. Licenses for possession and use of special nuclear material of less than a critical mass, as defined in § 70.4 of this chapter, in sealed sources contained in devices used in industrial measuring systems, including x-ray fluorescence analyzers. [Program Code(s): 22140] | 3,600
D. All other special nuclear material licenses, except licenses authorizing special nuclear material in sealed or unsealed form in combination that would constitute a critical mass, as defined in § 70.4 of this chapter, for which the licensee shall pay the same fees as those under Category 1.A. [Program Code(s): 22110, 22111, 22120, 22131, 22136, 22150, 22151, 22161, 22170, 23100, 23300, 23310] | 8,700
E. Licenses or certificates for the operation of a uranium enrichment facility 15 [Program Code(s): 21200] | 2,659,000
F. Licenses for possession and use of special nuclear materials greater than critical mass, as defined in § 70.4 of this chapter, for development and testing of commercial products, and other non-fuel cycle activities. 4 [Program Code: 22155] | 6,500
2. Source material:
A. (1) Licenses for possession and use of source material for refining uranium mill concentrates to uranium hexafluoride or for deconverting uranium hexafluoride in the production of uranium oxides for disposal. 15 [Program Code: 11400] | 1,295,000
(2) Licenses for possession and use of source material in recovery operations such as milling, in situ recovery, heap-leaching, ore buying stations, ion-exchange facilities and in-processing of ores containing source material for extraction of metals other than uranium or thorium, including licenses authorizing the possession of byproduct waste material (tailings) from source material recovery operations, as well as licenses authorizing the possession and maintenance of a facility in a standby mode
(a) Conventional and Heap Leach facilities. 15 [Program Code(s): 11100] | N/A
(b) Basic In Situ Recovery facilities. 15 [Program Code(s): 11500] | 26,800
(c) Expanded In Situ Recovery facilities 15 [Program Code(s): 11510] | N/A
(d) In Situ Recovery Resin facilities. 15 [Program Code(s): 11550] | 5 N/A
(e) Resin Toll Milling facilities. 15 [Program Code(s): 11555] | 5 N/A
(f) Other facilities 6 [Program Code(s): 11700] | 5 N/A
(3) Licenses that authorize the receipt of byproduct material, as defined in section 11e.(2) of the Atomic Energy Act, from other persons for possession and disposal, except those licenses subject to the fees in Category 2.A.(2) or Category 2.A.(4) 15 [Program Code(s): 11600, 12000] | 5 N/A
(4) Licenses that authorize the receipt of byproduct material, as defined in section 11e.(2) of the Atomic Energy Act, from other persons for possession and disposal incidental to the disposal of the uranium waste tailings generated by the licensee's milling operations, except those licenses subject to the fees in Category 2.A.(2) 15 [Program Code(s): 12010] | N/A
B. Licenses which authorize the possession, use, and/or installation of source material for shielding. 16 17 Application [Program Code(s): 11210] | 4,000
C. Licenses to distribute items containing source material to persons exempt from the licensing requirements of part 40 of this chapter. [Program Code: 11240] | 15,000
D. Licenses to distribute source material to persons generally licensed under part 40 of this chapter. [Program Code(s): 11230 and 11231] | 7,500
E. Licenses for possession and use of source material for processing or manufacturing of products or materials containing source material for commercial distribution. [Program Code: 11710] | 9,600
F. All other source material licenses. [Program Code(s): 11200, 11220, 11221, 11300, 11800, 11810, 11820] | 11,800
3. Byproduct material:
A. Licenses of broad scope for possession and use of byproduct material issued under parts 30 and 33 of this chapter for processing or manufacturing of items containing byproduct material for commercial distribution. Number of locations of use: 1-5. [Program Code(s): 03211, 03212, 03213] | 41,000
(1) Licenses of broad scope for the possession and use of byproduct material issued under parts 30 and 33 of this chapter for processing or manufacturing of items containing byproduct material for commercial distribution. Number of locations of use: 6-20. [Program Code(s): 04010, 04012, 04014] | 54,500
(2) Licenses of broad scope for the possession and use of byproduct material issued under parts 30 and 33 of this chapter for processing or manufacturing of items containing byproduct material for commercial distribution. Number of locations of use: more than 20. [Program Code(s): 04011, 04013, 04015] | 68,000
B. Other licenses for possession and use of byproduct material issued under part 30 of this chapter for processing or manufacturing of items containing byproduct material for commercial distribution. Number of locations of use: 1-5. [Program Code(s): 03214, 03215, 22135, 22162] | 14,000
(1) Other licenses for possession and use of byproduct material issued under part 30 of this chapter for processing or manufacturing of items containing byproduct material for commercial distribution. Number of locations of use: 6-20. [Program Code(s): 04110, 04112, 04114, 04116] | 18,600
(2) Other licenses for possession and use of byproduct material issued under part 30 of this chapter for processing or manufacturing of items containing byproduct material for commercial distribution. Number of locations of use: more than 20. [Program Code(s): 04111, 04113, 04115, 04117] | 23,100
C. Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4) of this chapter. Number of locations of use: 1-5. [Program Code(s): 02500, 02511, 02513] | 13,800
(1) Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: 6-20. [Program Code(s): 04210, 04212, 04214] | 20,300
(2) Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: more than 20. [Program Code(s): 04211, 04213, 04215] | 25,400
D. [Reserved] | 5 N/A
E. Licenses for possession and use of byproduct material in sealed sources for irradiation of materials in which the source is not removed from its shield (self-shielded units). [Program Code(s): 03510, 03520] | 13,200
F. Licenses for possession and use of less than or equal to 10,000 curies of byproduct material in sealed sources for irradiation of materials in which the source is exposed for irradiation purposes. This category also includes underwater irradiators for irradiation of materials in which the source is not exposed for irradiation purposes. [Program Code(s): 03511] | 13,400
G. Licenses for possession and use of greater than 10,000 curies of byproduct material in sealed sources for irradiation of materials in which the source is exposed for irradiation purposes. This category also includes underwater irradiators for irradiation of materials in which the source is not exposed for irradiation purposes. [Program Code(s): 03521] | 113,800
H. Licenses issued under subpart A of part 32 of this chapter to distribute items containing byproduct material that require device review to persons exempt from the licensing requirements of part 30 of this chapter, except specific licenses authorizing redistribution of items that have been authorized for distribution to persons exempt from the licensing requirements of part 30 of this chapter. [Program Code(s): 03254, 03255, 03257] | 14,500
I. Licenses issued under subpart A of part 32 of this chapter to distribute items containing byproduct material or quantities of byproduct material that do not require device evaluation to persons exempt from the licensing requirements of part 30 of this chapter, except for specific licenses authorizing redistribution of items that have been authorized for distribution to persons exempt from the licensing requirements of part 30 of this chapter. [Program Code(s): 03250, 03251, 03253, 03256] | 19,800
J. Licenses issued under subpart B of part 32 of this chapter to distribute items containing byproduct material that require sealed source and/or device review to persons generally licensed under part 31 of this chapter, except specific licenses authorizing redistribution of items that have been authorized for distribution to persons generally licensed under part 31 of this chapter. [Program Code(s): 03240, 03241, 03243] | 5,300
K. Licenses issued under subpart B of part 32 of this chapter to distribute items containing byproduct material or quantities of byproduct material that do not require sealed source and/or device review to persons generally licensed under part 31 of this chapter, except specific licenses authorizing redistribution of items that have been authorized for distribution to persons generally licensed under part 31 of this chapter. [Program Code(s): 03242, 03244] | 3,900
L. Licenses of broad scope for possession and use of byproduct material issued under parts 30 and 33 of this chapter for research and development that do not authorize commercial distribution. Number of locations of use: 1-5. [Program Code(s): 01100, 01110, 01120, 03610, 03611, 03612, 03613] | 19,000
(1) Licenses of broad scope for possession and use of product material issued under parts 30 and 33 of this chapter for research and development that do not authorize commercial distribution. Number of locations of use: 6-20. [Program Code(s): 04610, 04612, 04614, 04616, 04618, 04620, 04622] | 25,200
(2) Licenses of broad scope for possession and use of byproduct material issued under parts 30 and 33 of this chapter for research and development that do not authorize commercial distribution. Number of locations of use: more than 20. [Program Code(s): 04611, 04613, 04615, 04617, 04619, 04621, 04623] | 31,400
M. Other licenses for possession and use of byproduct material issued under part 30 of this chapter for research and development that do not authorize commercial distribution. [Program Code(s): 03620] | 19,900
N. Licenses that authorize services for other licensees, except: (1) Licenses that authorize only calibration and/or leak testing services are subject to the fees specified in fee Category 3.P.; and (2) Licenses that authorize waste disposal services are subject to the fees specified in fee categories 4.A., 4.B., and 4.C. 21 [Program Code(s): 03219, 03225, 03226] | 21,800
O. Licenses for possession and use of byproduct material issued under part 34 of this chapter for industrial radiography operations. This category also includes the possession and use of source material for shielding authorized under part 40 of this chapter when authorized on the same license. Number of locations of use: 1-5. [Program Code(s): 03310, 03320] | 31,700
(1) Licenses for possession and use of byproduct material issued under part 34 of this chapter for industrial radiography operations. This category also includes the possession and use of source material for shielding authorized under part 40 of this chapter when authorized on the same license. Number of locations of use: 6-20. [Program Code(s): 04310, 04312] | 42,200
(2) Licenses for possession and use of byproduct material issued under part 34 of this chapter for industrial radiography operations. This category also includes the possession and use of source material for shielding authorized under part 40 of this chapter when authorized on the same license. Number of locations of use: more than 20. [Program Code(s): 04311, 04313] | 52,800
P. All other specific byproduct material licenses, except those in Categories 4.A. through 9.D. 18 Number of locations of use: 1-5. [Program Code(s): 02400, 02410, 03120, 03121, 03122, 03123, 03124, 03140, 03130, 03220, 03221, 03222, 03800, 03810, 22130] | 15,600
(1) All other specific byproduct material licenses, except those in Categories 4.A. through 9.D. 18 Number of locations of use: 6-20. [Program Code(s): 04410, 04412, 04414, 04416, 04418, 04420, 04422, 04424, 04426, 04428, 04430, 04432, 04434, 04436, 04438] | 21,100
(2) All other specific byproduct material licenses, except those in Categories 4.A. through 9.D. 18 Number of locations of use: more than 20. [Program Code(s): 04411, 04413, 04415, 04417, 04419, 04421, 04423, 04425, 04427, 04429, 04431, 04433, 04435, 04437, 04439] | 26,400
Q. Registration of devices generally licensed under part 31 of this chapter | 13 N/A
R. Possession of items or products containing radium-226 identified in § 31.12 of this chapter which exceed the number of items or limits specified in that section: 14
(1) Possession of quantities exceeding the number of items or limits in § 31.12(a)(4), or (5) of this chapter but less than or equal to 10 times the number of items or limits specified. [Program Code(s): 02700] | 9,000
(2) Possession of quantities exceeding 10 times the number of items or limits specified in § 31.12(a)(4) or (5) of this chapter. [Program Code(s): 02710] | 9,500
S. Licenses for production of accelerator-produced radionuclides. [Program Code(s): 03210] | 37,900
4. Waste disposal and processing:
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material. [Program Code(s): 03231, 03233, 03236, 06100, 06101] | 33,900
B. Licenses specifically authorizing the receipt of waste byproduct material, source material, or special nuclear material from other persons for the purpose of packaging or repackaging the material. The licensee will dispose of the material by transfer to another person authorized to receive or dispose of the material. [Program Code(s): 03234] | 22,000
C. Licenses specifically authorizing the receipt of prepackaged waste byproduct material, source material, or special nuclear material from other persons. The licensee will dispose of the material by transfer to another person authorized to receive or dispose of the material. [Program Code(s): 03232] | 13,000
5. Well logging:
A. Licenses for possession and use of byproduct material, source material, and/or special nuclear material for well logging, well surveys, and tracer studies other than field flooding tracer studies. [Program Code(s): 03110, 03111, 03112] | 17,600
B. Licenses for possession and use of byproduct material for field flooding tracer studies. [Program Code(s): 03113] | 5 N/A
6. Nuclear laundries:
A. Licenses for commercial collection and laundry of items contaminated with byproduct material, source material, or special nuclear material. [Program Code(s): 03218] | 37,200
7. Medical licenses:
A. Licenses issued under parts 30, 35, 40, and 70 of this chapter for human use of byproduct material, source material, or special nuclear material in sealed sources contained in gamma stereotactic radiosurgery units, teletherapy devices, or similar beam therapy devices. This category also includes the possession and use of source material for shielding when authorized on the same license. 9 17 Number of locations of use: 1-5. [Program Code(s): 02300, 02310] | 40,600
(1) Licenses issued under parts 30, 35, 40, and 70 of this chapter for human use of byproduct material, source material, or special nuclear material in sealed sources contained in gamma stereotactic radiosurgery units, teletherapy devices, or similar beam therapy devices. This category also includes the possession and use of source material for shielding when authorized on the same license. 9 17 Number of locations of use: 6-20. [Program Code(s): 04510, 04512] | 54,100
(2) Licenses issued under parts 30, 35, 40, and 70 of this chapter for human use of byproduct material, source material, or special nuclear material in sealed sources contained in gamma stereotactic radiosurgery units, teletherapy devices, or similar beam therapy devices. This category also includes the possession and use of source material for shielding when authorized on the same license. 9 17 Number of locations of use: more than 20. [Program Code(s): 04511, 04513] | 67,600
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. 9 17 Number of locations of use: 1-5. [Program Code(s): 02110] | 57,400
(1) Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. 9 17 Number of locations of use: 6-20. [Program Code(s): 04710] | 76,400
(2) Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. 9 17 Number of locations of use: more than 20. [Program Code(s): 04711] | 95,400
C. Other licenses issued under parts 30, 35, 40, and 70 of this chapter for human use of byproduct material, source material, and/or special nuclear material, except licenses for byproduct material, source material, or special nuclear material in sealed sources contained in teletherapy devices. This category also includes the possession and use of source material for shielding when authorized on the same license. 9 17 19 Number of locations of use: 1-5. [Program Code(s): 02120, 02121, 02200, 02201, 02210, 02220, 02230, 02231, 02240, 22160] | 21,600
(1) Other licenses issued under parts 30, 35, 40, and 70 of this chapter for human use of byproduct material, source material, and/or special nuclear material, except licenses for byproduct material, source material, or special nuclear material in sealed sources contained in teletherapy devices. This category also includes the possession and use of source material for shielding when authorized on the same license. 9 17 19 Number of locations of use: 6-20. [Program Code(s): 04810, 04812, 04814, 04816, 04818, 04820, 04822, 04824, 04826, 04828] | 30,800
(2) Other licenses issued under parts 30, 35, 40, and 70 of this chapter for human use of byproduct material, source material, and/or special nuclear material, except licenses for byproduct material, source material, or special nuclear material in sealed sources contained in teletherapy devices. This category also includes the possession and use of source material for shielding when authorized on the same license. 9 17 19 Number of locations of use: more than 20. [Program Code(s): 04811, 04813, 04815, 04817, 04819, 04821, 04823, 04825, 04827, 04829] | 39,400
8. Civil defense:
A. Licenses for possession and use of byproduct material, source material, or special nuclear material for civil defense activities. [Program Code(s): 03710] | 9,000
9. Device, product, or sealed source safety evaluation:
A. Registrations issued for the safety evaluation of devices or products containing byproduct material, source material, or special nuclear material, except reactor fuel devices, for commercial distribution | 27,200
B. Registrations issued for the safety evaluation of devices or products containing byproduct material, source material, or special nuclear material manufactured in accordance with the unique specifications of, and for use by, a single applicant, except reactor fuel devices | 14,200
C. Registrations issued for the safety evaluation of sealed sources containing byproduct material, source material, or special nuclear material, except reactor fuel, for commercial distribution | 8,300
D. Registrations issued for the safety evaluation of sealed sources containing byproduct material, source material, or special nuclear material, manufactured in accordance with the unique specifications of, and for use by, a single applicant, except reactor fuel | 1,700
10. Transportation of radioactive material:
A. Certificates of Compliance or other package approvals issued for design of casks, packages, and shipping containers
1. Spent Fuel, High-Level Waste, and plutonium air packages | 6 N/A
2. Other Casks | 6 N/A
B. Quality assurance program approvals issued under part 71 of this chapter
1. Users and Fabricators | 6 N/A
2. Users | 6 N/A
C. Evaluation of security plans, route approvals, route surveys, and transportation security devices (including immobilization devices) | 6 N/A
11. Standardized spent fuel facilities | 6 N/A
12. Special Projects [Program Code(s): 25110] | 6 N/A
13. A. Spent fuel storage cask Certificate of Compliance | 6 N/A
B. General licenses for storage of spent fuel under § 72.210 of this chapter | 12 N/A
14. Decommissioning/Reclamation:
A. Byproduct, source, or special nuclear material licenses and other approvals authorizing decommissioning, decontamination, reclamation, or site restoration activities under parts 30, 40, 70, 72, and 76 of this chapter, including master materials licenses (MMLs). The transition to this fee category occurs when a licensee has permanently ceased principal activities. [Program Code(s): 03900, 11900, 21135, 21215, 21325, 22200] | 7 20 N/A
B. Site-specific decommissioning activities associated with unlicensed sites, including MMLs, whether or not the sites have been previously licensed | 7 N/A
15. Import and Export licenses | 8 N/A
16. Reciprocity | 8 N/A
17. Master materials licenses of broad scope issued to Government agencies. 15 [Program Code(s): 03614] | 494,000
18. Department of Energy:
A. Certificates of Compliance | 10 1,952,000
B. Uranium Mill Tailings Radiation Control Act (UMTRCA) activities [Program Code(s): 03237, 03238] | 156,000
¹ Annual fees will be assessed based on whether a licensee held a valid license with the NRC authorizing possession and use of radioactive material during the current FY. The annual fee is waived for those materials licenses and holders of certificates, registrations, and approvals who either filed for termination of their licenses or approvals or filed for possession only/storage licenses before October 1 of the current FY and permanently ceased licensed activities entirely before this date. Annual fees for licensees who filed for termination of a license, downgrade of a license, or for a possession-only license during the FY and for new licenses issued during the FY will be prorated in accordance with the provisions of § 171.17. If a person holds more than one license, certificate, registration, or approval, the annual fee(s) will be assessed for each license, certificate, registration, or approval held by that person. For licenses that authorize more than one activity on a single license (e.g., human use and irradiator activities), annual fees will be assessed for each category applicable to the license.
² Payment of the prescribed annual fee does not automatically renew the license, certificate, registration, or approval for which the fee is paid. Renewal applications must be filed in accordance with the requirements of parts 30, 40, 70, 71, 72, or 76 of this chapter.
³ Each FY, fees for these materials licenses will be calculated and assessed in accordance with § 171.13 and will be published in the Federal Register for notice and comment.
⁴ Other facilities include licenses for extraction of metals, heavy metals, and rare earths.
⁵ There are no existing NRC licenses in these fee categories. If NRC issues a license for these categories, the Commission will consider establishing an annual fee for this type of license.
⁶ Standardized spent fuel facilities, 10 CFR parts 71 and 72 Certificates of Compliance and related Quality Assurance program approvals, and special reviews, such as topical reports, are not assessed an annual fee because the generic costs of regulating these activities are primarily attributable to users of the designs, certificates, and topical reports.
⁷ Licensees in this category are not assessed an annual fee because they are charged an annual fee in other categories while they are licensed to operate.
⁸ No annual fee is charged because it is not practical to administer due to the relatively short life or temporary nature of the license.
⁹ Separate annual fees will not be assessed for pacemaker licenses issued to medical institutions that also hold nuclear medicine licenses under fee categories 7.A, 7.A.1, 7.A.2, 7.B., 7.B.1, 7.B.2, 7.C, 7.C.1, or 7.C.2.
¹⁰ This includes Certificates of Compliance issued to the DOE that are not funded from the Nuclear Waste Fund.
¹¹ See § 171.15(c).
¹² See § 171.15(c).
¹³ No annual fee is charged for this category because the cost of the general license registration program applicable to licenses in this category will be recovered through 10 CFR part 170 fees.
¹⁴ Persons who possess radium sources that are used for operational purposes in another fee category are not also subject to the fees in this category. (This exception does not apply if the radium sources are possessed for storage only.)
¹⁵ Licensees subject to fees under categories 1.A., 1.B., 1.E., 2.A., and licensees paying fees under fee category 17 must pay the largest applicable fee and are not subject to additional fees listed in this table.
¹⁶ Licensees paying fees under 3.C. are not subject to fees under 2.B. for possession and shielding authorized on the same license.
¹⁷ Licensees paying fees under 7.A, 7.A.1, 7.A.2, 7.B, 7.B.1, 7.B.2, 7.C, 7.C.1, or 7.C.2 are not subject to fees under 2.B. for possession and shielding authorized on the same license.
¹⁸ Licensees paying fees under 3.N. are not subject to paying fees under 3.P., 3.P.1, or 3.P.2 for calibration or leak testing services authorized on the same license.
¹⁹ Licensees paying fees under 7.B., 7.B.1, or 7.B.2 are not subject to paying fees under 7.C., 7.C.1, or 7.C.2 for broad scope license licenses issued under parts 30, 35, 40, and 70 of this chapter for human use of byproduct material, source material, and/or special nuclear material, except licenses for byproduct material, source material, or special nuclear material in sealed sources contained in teletherapy devices authorized on the same license.
²⁰ No annual fee is charged for a materials license (or part of a materials license) that has transitioned to this fee category because the decommissioning costs will be recovered through 10 CFR part 170 fees, but annual fees may be charged for other activities authorized under the license that are not in decommissioning status.
²¹ Licensees paying fees under 4.A., 4.B. or 4.C. are not subject to paying fees under 3.N. licenses that authorize services for other licensees authorized on the same license.

Dated: June 12, 2025.
For the Nuclear Regulatory Commission.
Christopher Carroll,
Acting Chief Financial Officer.

[FR Doc. 2025-11544 Filed 6-23-25; 8:45 am]

BILLING CODE 7590-01-P